DEPARTMENT OF THE INTERIOR

Fish and Wildlife Service

50 CFR Part 32

[Docket No. FWS-HQ-NWRS-2017-0005; FXRS12650900000-178-FF09R26000]

RIN 1018-BB75

2017-2018 Refuge-Specific Hunting and Sport Fishing Regulations

AGENCY: Fish and Wildlife Service, Interior.

ACTION: Final rule.

SUMMARY: We, the U.S. Fish and Wildlife Service, increase the hunting activities available at nine refuges, open one refuge to sport fishing for the first time, and add pertinent refuge-specific regulations for other NWRs that pertain to migratory game bird hunting, upland game hunting, big game hunting, and sport fishing for the 2017-2018 season.

DATES: This rule is effective November 8, 2017.

FOR FURTHER INFORMATION CONTACT: Katherine Harrigan, (703) 358-2440.

SUPPLEMENTARY INFORMATION: The National Wildlife Refuge System Administration Act of 1966 closes NWRs in all States except Alaska to all uses until opened. The Secretary of the Interior (Secretary) may open refuge areas to any use, including hunting and/or sport fishing, upon a determination that the use is compatible with the purposes of the refuge and National Wildlife Refuge System mission. The action also must be in accordance with provisions of all laws applicable to the areas, developed in coordination with the appropriate State fish and wildlife agency(ies), consistent with the principles of sound fish and wildlife management and administration, and otherwise in the public interest. These requirements ensure that we maintain the biological integrity, diversity, and environmental health of the Refuge System for the benefit of present and future generations of Americans.

We annually review refuge hunting and sport fishing programs to determine whether to include additional refuges or whether individual refuge regulations governing existing programs need modifications. Changing environmental conditions, State and Federal regulations, and other factors affecting fish and wildlife populations and habitat may warrant modifications to refuge-specific regulations to ensure the continued compatibility of hunting and sport fishing programs and to ensure that these programs will not materially interfere with or detract from the fulfillment of refuge purposes or the Refuge System's mission.

Provisions governing hunting and sport fishing on refuges are in title 50 of the Code of Federal Regulations in part 32 (50 CFR part 32). We regulate hunting and sport fishing on refuges to:

• Ensure compatibility with refuge purpose(s);

• Properly manage fish and wildlife resource(s);

• Protect other refuge values;

• Ensure refuge visitor safety; and

• Provide opportunities for quality fish- and wildlife-dependent recreation.

On many refuges where we decide to allow hunting and sport fishing, our general policy of adopting regulations identical to State hunting and sport fishing regulations is adequate in meeting these objectives. On other refuges, we must supplement State regulations with more-restrictive Federal regulations to ensure that we meet our management responsibilities, as outlined in the Statutory Authority section, below. We issue refuge-specific hunting and sport fishing regulations when we open wildlife refuges to migratory game bird hunting, upland game hunting, big game hunting, or sport fishing. These regulations may list the wildlife species that you may hunt or fish, seasons, bag or creel (container for carrying fish) limits, methods of hunting or sport fishing, descriptions of areas open to hunting or sport fishing, and other provisions as appropriate. You may find previously issued refuge-specific regulations for hunting and sport fishing in 50 CFR part 32. In this rulemaking, we are also standardizing and clarifying the language of existing regulations.

Statutory Authority

The National Wildlife Refuge System Administration Act of 1966 (16 U.S.C. 668dd-668ee, as amended by the National Wildlife Refuge System Improvement Act of 1997 [Improvement Act]) (Administration Act), and the Refuge Recreation Act of 1962 (16 U.S.C. 460k-460k-4) (Recreation Act) govern the administration and public use of refuges.

Amendments enacted by the Improvement Act built upon the Administration Act in a manner that provides an “organic act” for the Refuge System, similar to organic acts that exist for other public Federal lands. The Improvement Act serves to ensure that we effectively manage the Refuge System as a national network of lands, waters, and interests for the protection and conservation of our Nation's wildlife resources. The Administration Act states first and foremost that we focus our Refuge System mission on conservation of fish, wildlife, and plant resources and their habitats. The Improvement Act requires the Secretary, before allowing a new use of a refuge, or before expanding, renewing, or extending an existing use of a refuge, to determine that the use is compatible with the purpose for which the refuge was established and the mission of the Refuge System. The Improvement Act established as the policy of the United States that wildlife-dependent recreation, when compatible, is a legitimate and appropriate public use of the Refuge System, through which the American public can develop an appreciation for fish and wildlife. The Improvement Act established six wildlife-dependent recreational uses as the priority general public uses of the Refuge System. These uses are: Hunting, fishing, wildlife observation and photography, and environmental education and interpretation.

The Recreation Act authorizes the Secretary to administer areas within the Refuge System for public recreation as an appropriate incidental or secondary use only to the extent that doing so is practicable and not inconsistent with the primary purpose(s) for which Congress and the Service established the areas. The Recreation Act requires that any recreational use of refuge lands be compatible with the primary purpose(s) for which we established the refuge and not inconsistent with other previously authorized operations.

The Administration Act and Recreation Act also authorize the Secretary to issue regulations to carry out the purposes of the Acts and regulate uses.

We develop specific management plans for each refuge prior to opening it to hunting or sport fishing. In many cases, we develop refuge-specific regulations to ensure the compatibility of the programs with the purpose(s) for which we established the refuge and the Refuge System mission. We ensure initial compliance with the Administration Act and the Recreation Act for hunting and sport fishing on newly acquired refuges through an interim determination of compatibility made at or near the time of acquisition. These regulations ensure that we make the determinations required by these acts prior to adding refuges to the lists of areas open to hunting and sport fishing in 50 CFR part 32. We ensure continued compliance by the development of comprehensive conservation plans and step-down management plans, and by annual review of hunting and sport fishing programs and regulations.

Summary of Comments and Responses

On August 10, 2017, we published a proposed rule (82 FR 37398) to increase the hunting activities available at nine refuges and open one refuge to fishing for the first time, and add pertinent refuge-specific regulations for other refuges that pertain to migratory game bird hunting, upland game hunting, big game hunting, and sport fishing for the 2017-2018 season. We accepted public comments on the proposed rule for 30 days, ending September 11, 2017. By that date, we received 106 comments. Of those, two comments concerned only National Monuments, which are not the subject of our proposed rule. Therefore, we do not consider them below. We discuss the other 104 comments we received below by topic.

Comment (1): Many commenters expressed general opposition to any hunting or fishing in the National Wildlife Refuge System (NWRS). In many cases, commenters stated that hunting was antithetical to the purposes of a “refuge,” which, in their opinion, should serve as an inviolate sanctuary for all wildlife. Thirteen of these comments specifically opposed hunting at Baskett Slough National Wildlife Refuge, one commenter opposed hunting at Horicon National Wildlife Refuge, one commenter opposed hunting at Savannah River National Wildlife Refuge, one commenter opposed hunting at all refuges within the State of Alabama, and one commenter opposed sport fishing at Siletz Bay National Wildlife Refuge.

Our Response: The Administration Act, as amended, stipulates that hunting (along with fishing, wildlife observation and photography, and environmental education and interpretation), if found to be compatible, is a legitimate and priority general public use of a refuge and should be facilitated. The Service has adopted policies and regulations implementing the requirements of the Administration Act that refuge managers comply with when considering hunting and fishing programs.

We allow hunting of resident wildlife on NWRs only if such activity has been determined compatible with the established purpose(s) of the refuge and the mission of the Refuge System as required by the Administration Act. Hunting of resident wildlife on NWRs generally occurs consistent with State regulations, including seasons and bag limits. Refuge-specific hunting regulations can be more restrictive (but not more liberal) than State regulations and often are more restrictive in order to help meet specific refuge objectives. These objectives include resident wildlife population and habitat objectives, minimizing disturbance impacts to wildlife, maintaining high-quality opportunities for hunting and other wildlife-dependent recreation, eliminating or minimizing conflicts with other public uses and/or refuge management activities, and protecting public safety.

Each refuge manager makes a decision regarding hunting on that particular refuge only after rigorous examination of the available information. Developing or referencing a comprehensive conservation plan (CCP), a 15-year plan for the refuge, is generally the first step a refuge manager takes. Our policy for managing units of the Refuge System is that we will manage all refuges in accordance with an approved CCP, which, when implemented, will achieve refuge purposes; help fulfill the Refuge System mission; maintain and, where appropriate, restore the ecological integrity of each refuge and the Refuge System; help achieve the goals of the National Wilderness Preservation System; and meet other mandates. The CCP will guide management decisions and set forth goals, objectives, and strategies to accomplish these ends. The next step for refuge managers is developing or referencing step-down plans, of which a hunting plan would be one. Part of the process for opening a refuge to hunting after completing the step-down plan would be appropriate compliance with the National Environmental Policy Act (NEPA; 42 U.S.C. 4321 et seq.), such as conducting an environmental assessment accompanied by the appropriate decision documentation (record of decision, finding of no significant impact, or environmental action memorandum or statement). The rest of the elements in the opening package are an evaluation of section 7 of the Endangered Species Act of 1973, as amended (16 U.S.C. 1531 et seq.), copies of letters requesting State and/or tribal involvement, and draft refuge-specific regulatory language. We make available the CCP, hunt plan, and NEPA documents and request public comments on them, as well as on any proposed rule, before we allow hunting on a refuge.

In sum, this illustrates that the decision to allow hunting on an NWR is not a quick or simple process. It is full of deliberation and discussion, including review of all available data to determine the relative health of a population before we allow it to be hunted.

The word “refuge” includes the idea of providing a haven of safety for wildlife, and as such, hunting might seem an inconsistent use of the NWRS. But again, the Administration Act stipulates that hunting, if found compatible, is a legitimate and priority general public use of a refuge. Furthermore, we manage refuges to support healthy wildlife populations that in many cases produce harvestable surpluses that are a renewable resource. As practiced on refuges, hunting and fishing do not pose a threat to wildlife populations. It is important to note that taking certain individuals through hunting does not necessarily reduce a population overall, as hunting can simply replace other types of mortality. In some cases, however, we use hunting as a management tool with the explicit goal of reducing a population; this is often the case with exotic and/or invasive species that threaten ecosystem stability. Therefore, facilitating hunting opportunities is an important aspect of the Service's roles and responsibilities as outlined in the legislation establishing the NWRS, and the Service will continue to facilitate these opportunities where compatible with the purpose of the specific refuge and the mission of the NWRS.

Note that not all refuges are inviolate sanctuaries. If we acquired a refuge as an inviolate sanctuary, we may open up to 40 percent of that refuge's area for hunting of migratory game birds (16 U.S.C. 668dd(d)(1)(A)). However, if we acquired a refuge without the stipulation that it be an inviolate sanctuary, we may open 100 percent of the refuge's area for hunting.

The Fish and Wildlife Improvement Act of 1978 (Pub. L. 95-616, 92 Stat. 3114) amended section 6 of the Administration Act to provide for the opening of all or any portion of an inviolate sanctuary to the taking of migratory birds if taking is determined to be beneficial to the species. Such opening of more than 40 percent of the refuge to hunting is determined by species. This amendment refers to inviolate sanctuaries created in the past or to be created in the future. It has no application to areas acquired for other management purposes.

We did not make any changes to the rule as a result of these comments.

Comment (2): Many commenters expressed support for hunting and fishing expansions on NWRs. Thirty-nine of these commenters specifically supported youth waterfowl hunting at Baskett Slough National Wildlife Refuge. Two commenters supported the new opportunities for hunting and fishing, and stated that hunting and fishing should be open on all public lands. Two commenters expressed support for the openings and expansions described in the proposed rule, but felt that the Service has not opened enough refuges to hunting or increased hunting at enough refuges. According to the commenters, more than 40 percent of the more than 566 NWRs still prohibit hunting; with the clear directives from the Executive and Legislative branches of the Federal Government to increase hunting activities, the Service must open refuges to hunting at a faster pace. The commenters also strongly recommended that the Service engage in discussions with State wildlife managers and with representatives of the hunting community, to facilitate and expedite these openings and make certain that these and all NWRs become or remain open to hunting.

Our Response: As noted in our response to Comment (1), the Administration Act, as amended, establishes that the Refuge System was created to conserve fish, wildlife, plants, and their habitats and that the Service should facilitate opportunities for Americans to participate in compatible wildlife-dependent recreation, including hunting and fishing, on Refuge System lands and waters. Therefore, the Service will continue to facilitate hunting and fishing opportunities where doing so is compatible with the purpose of the specific refuge and the mission of the NWRS.

The Service continues to open and expand hunting opportunities across the NWRS, as evidenced by this final rule; however, as detailed in our response to Comment (1), above, the decision to allow hunting on a refuge is not a quick or simple process. Once the Service determines that a hunt can be carried out in a manner compatible with individual refuge purposes and the mission of the NWRS, we work expeditiously to open it.

We did not make any changes to the rule as a result of these comments.

Comment (3): Many commenters stated that the majority of Americans do not hunt and were of the opinion that allowing hunting would impede “non-consumptive” uses of refuges, including photography and wildlife viewing.

Our Response: Congress, through the Administration Act, as amended, envisioned that hunting, fishing, wildlife observation and photography, and environmental education and interpretation would all be treated as priority public uses of the NWRS. Therefore, the Service facilitates all of these uses on refuges, as long as they are found compatible with the purposes of the specific refuge and the mission of the NWRS. For this rulemaking, we analyzed impacts of the proposed changes to hunting programs at each refuge through the NEPA process, which included analyzing impacts to other wildlife-dependent uses. The 10 refuges in this rulemaking completed environmental assessments (EAs). We also provided opportunities for the public to comment on the proposed hunt opening and expansions when we developed the CCP, hunt plan, and compatibility determination, and through the NEPA process. When looking at the 10 EAs completed for this specific rulemaking, collectively with the refuges that already allow for hunting, the Service has determined that there are no significant impacts to other wildlife-dependent recreation opportunities.

The refuges in this rulemaking use a variety of techniques to reduce user conflict, such as specific hunt seasons, limited hunting hours, restricting which parts of the refuge are open to hunting, and restricting the number of hunters. Refuge managers also use public outreach tools, such as signs and brochures, to make users aware of hunting and their options for minimizing conflict. Most refuges have refuge-specific regulations to improve the quality of the hunting experience as well as provide for quality wildlife-dependent experiences for other users. The Service is aware of several studies showing a correlation between increased hunting and decreased wildlife sightings, which underscores the importance of using the aforementioned techniques, particularly time and space zoning of hunting, to ensure a quality experience for all refuge visitors. More information on how a specific refuge facilitates various wildlife-dependent recreation opportunities can be found in the refuge's CCP, hunt plan, and/or refuge-specific EA or environmental impact statement (EIS). The public may contact the specific refuge for any of these materials.

We did not make any changes to the rule as a result of these comments.

Comment (4): A few commenters were of the opinion that hunting can disrupt the natural balance of the ecosystem that people enjoy, can impact the safety of other refuge users, and can deter people from going to visit areas even at times when there are not people actively hunting wildlife.

Our Response: We do not allow hunting on a refuge if it is found incompatible with that individual refuge's purposes or with the mission of the NWRS. In addition, the Service's Biological Integrity, Diversity, and Environmental Health (BIDEH) policy (601 Fish and Wildlife Service Manual (FW) 3) guides decision-making with respect to management of activities on refuges, including hunting. Service biologists and wildlife professionals, in consultation with the State, determine the optimal number of each game animal that should reside in an ecosystem and then establish hunt parameters (e.g., bag limits, sex ratios) based on those analyses. We carefully consider how a proposed hunt fits with individual refuge goals, objectives, and strategies before allowing the hunt. None of the known, estimated, or projected harvests of migratory game birds, upland game, or big game species in this rulemaking is expected to have significant adverse direct, indirect, or cumulative impacts to hunted populations, non-hunted wildlife, endangered or threatened species, plant or habitat resources, wildlife-dependent recreation, prescribed fire, air, soil, water, cultural resources, refuge facilities, solitude, or socio-economics. Further, we address the relationship between hunting and wildlife sightings in our response to Comment (3). We did not make any changes to the rule as a result of this comment.

Comment (5): One commenter requested that we increase non-motorized access at Bear River Migratory Bird Refuge in Utah, and eliminate motorized boat access to some units of the refuge.

Our Response: Non-motorized access at Bear River Migratory Bird Refuge is a result of the CCP process. As part of the CCP process, we invited the public to comment during the scoping period, as well as on the final draft plan. We received no comments regarding an increase in non-motorized access during this process. We appreciate the feedback, but we cannot accommodate these requests in this final rule; adding additional non-motorized access would require us to update our plan, compatibility determination, and NEPA documentation and allow for additional public comment. Therefore, we made no changes to this rule as a result of these comments. However, we may consider making these changes in the future after conducting the required above described actions.

Comment (6): One commenter expressed interest in opening fishing at the Morgan Lake unit of Baskett Slough NWR.

Our Response: The hunt plan for Baskett Slough is a result of the CCP process. As part of the CCP process, we invited the public to comment during the scoping period, as well as on the final draft plan. We received no comments regarding fishing at Morgan Lake during this process. We appreciate the feedback, but we cannot accommodate these requests in this final rule; adding fishing would require us to update our plan, compatibility determination, and NEPA documentation and allow for additional public comment. Therefore, we made no changes to this rule as a result of these comments. However, we may consider making these changes in the future after conducting the required above described actions.

Comment (7): Two commenters expressed interest in expanding waterfowl hunting to adults in addition to youth at Baskett Slough NWR. One of these commenters suggested wheelchair accessible hunting opportunities.

Our Response: The hunt plan limiting opportunities only for youths at Baskett Slough is a result of the CCP process. As part of the CCP process, we invited the public to comment during the scoping period, as well as on the final draft plan. The small size of the refuge and number of permits issued for the youth hunt allow the refuge to maintain a safe hunter density to provide an uncrowded, high-quality experience. Expanding adult waterfowl hunting opportunities would require us to update our hunt plan, compatibility determination, and NEPA documentation and allow for additional public comment. Wheelchair accessibility is outside the scope of this regulatory process, and would be considered within the refuge's facilities plan. Therefore, we made no changes to this rule as a result of these comments. However, we may consider making these changes in the future after conducting the required above described actions.

Comment (8): One commenter expressed concern regarding the regulatory change at Stillwater National Wildlife Refuge to close Swan Check Lake to non-motorized boating for 4 months of the year and stated that this regulatory change was proposed without public involvement. The commenter also stated that opening Willow Lake to non-motorized access must be examined through the NEPA process.

Our Response: We reverse our decision for now to close Swan Check Lake to non-motorized boating for 4 months to minimize the burden on the public, and we will revise the regulatory language to keep the unit open year-round in accordance with the CCP. The opening of Willow Lake to non-motorized access was previously analyzed in compliance with NEPA as part of the CCP process. Public comment was also sought during this process. We are updating the regulatory language for Stillwater National Wildlife Refuge in this rule to reflect these changes.

Comment (9): Three commenters expressed concern over allowing lead ammunition to be used on refuges; some requested that the Service ban lead ammunition for all hunting.

Our Response: The Service is concerned about the impacts of spent lead ammunition on scavengers, especially bald eagles and ravens. Lead shot for waterfowl hunting has been illegal on refuges since 1998. We continue to look at options and ways to reduce the indirect impacts of toxic shot. Generally, we are and have been phasing out the use of lead shot by upland and big game hunters on refuge lands.

The Service continues to research this issue and engage with States and other partners to promote the use of non-lead ammunition. The Administration Act, as amended, directs the Service to make refuge regulations as consistent with State regulations as practicable. We share a strong partnership with the States in managing wildlife, and, therefore, we are proceeding with the phase-out of toxic ammunition in a coordinated manner with each respective State wildlife agency. We note for State of California, lead ammunition is already banned under State law and is therefore banned on all refuges in California.

We made no changes to the rule as a result of these comments.

Changes From the Proposed Rule

As discussed above, under Summary of Comments and Responses, based on comments we received on the proposed rule, we made changes to the regulatory text in this final rule from what we proposed for Stillwater NWR (in Nevada). Specifically, for Stillwater NWR, we revised the regulations to keep non-motorized access on Swan Check Lake open year-round.

In addition, we are adding to this final rule changes not included in our proposed rule. Specifically, we are adding regulations for upland and big game hunting for Kankakee National Wildlife Refuge to 50 CFR 32.32 (Illinois). We are also making changes to refuge-specific regulations for, Rocky Mountain Arsenal in Colorado, and Benton Lake National Wildlife Refuge and Benton Lake Wetland Management District in Montana. Over all, these changes were deemed minor and not controversial.

Effective Date

We are making this rule effective upon publication in the Federal Register (see DATES, above). We have determined that any further delay in implementing these refuge-specific hunting and sport fishing regulations would not be in the public interest, in that a delay would hinder the effective planning and administration of the hunting and fishing programs. We provided a 30-day public comment period for the August 10, 2017, proposed rule (82 FR 37398). This rule does not impact the public generally in terms of requiring lead time for compliance. Rather, it relieves restrictions in that it allows activities on refuges that we would otherwise prohibit. Therefore, we find good cause under 5 U.S.C. 553(d)(3) to make this rule effective upon publication.

Amendments to Existing Regulations

This document adopts in the Code of Federal Regulations all of the Service's hunting and/or sport fishing regulations that we are updating since the last time we published a rule amending these regulations (81 FR 68874; October 4, 2016) and that are applicable at Refuge System units previously opened to hunting and/or sport fishing. We are taking this action to better inform the general public of the regulations at each refuge, to increase understanding and compliance with these regulations, and to make enforcement of these regulations more efficient. In addition to now finding these regulations in 50 CFR part 32, visitors to our refuges may find them reiterated in literature distributed by each refuge or posted on signs.

Table 1—Changes for 2017-2018 Hunting/Fishing Season
Refuge/region (*) | State | Migratory bird hunting | Upland game hunting | Big game hunting | Sport fishing
Baskett Slough (1) | Oregon | C | Closed | Closed | Closed.
Des Lacs (6) | North Dakota | Closed | Already Open | C/D | Closed.
Fox River (3) | Wisconsin | Closed | Closed | C | Closed.
Horicon (3) | Wisconsin | D | C/D | C | Already Open.
Minnesota Valley (3) | Minnesota | C | C | C | Already Open.
Patoka River (3) | Indiana | C | C | C | C.
Savannah River (4) | Georgia and South Carolina | C/D | C/D | C/D | Already Open.
Sequoyah (2) | Oklahoma | Already Open | C | C | Already Open.
Siletz Bay (1) | Oregon | Already Open | Closed | Closed | B.
Upper Souris (6) | North Dakota | Closed | C/D | C/D | Already Open.
* Number in ( ) refers to the Region as defined in the preamble to this rule under Available Information for Specific Refuges.
Key:
A = New refuge opened.
B = New activity on a refuge previously open to other activities.
C = Refuge already open to activity, but added new lands/waters or modified areas open to hunting or fishing.
D = Refuge already open to activity but added new species to hunt.

The changes for the 2017-18 hunting/fishing season noted in the chart above are each based on a complete administrative record which, among other detailed documentation, also includes a hunt plan, a compatibility determination, and the appropriate National Environmental Policy Act (NEPA; 42 U.S.C. 4321 et seq.) analysis, all of which were the subject of a public review and comment process. These documents are available upon request.

Fish Advisory

For health reasons, anglers should review and follow State-issued consumption advisories before enjoying recreational sport fishing opportunities on Service-managed waters. You can find information about current fish-consumption advisories on the Internet at: http://www.epa.gov/fish-tech.

Plain Language Mandate

In this rule, we revise some regulations for individual refuge units to comply with a Presidential mandate to use plain language in regulations; these particular revisions do not modify the substance of the previous regulations. These types of changes include using “you” to refer to the reader and “we” to refer to the Refuge System, using the word “allow” instead of “permit” when we do not require the use of a permit for an activity, and using active voice (e.g., “We restrict entry into the refuge” vs. “Entry into the refuge is restricted”).

Executive Order 13771—Reducing Regulation and Controlling Regulatory Costs

This rule is not an Executive Order (E.O.) 13771 (82 FR 9339, February 3, 2017) regulatory action because this rule is not significant under E.O. 12866.

Regulatory Planning and Review (Executive Orders 12866 and 13563)

Executive Order 12866 provides that the Office of Information and Regulatory Affairs (OIRA) will review all significant rules. OIRA has determined that this rulemaking is not significant.

Executive Order 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

Regulatory Flexibility Act

Under the Regulatory Flexibility Act (as amended by the Small Business Regulatory Enforcement Fairness Act [SBREFA] of 1996) (5 U.S.C. 601 et seq.), whenever a Federal agency is required to publish a notice of rulemaking for any proposed or final rule, it must prepare and make available for public comment a regulatory flexibility analysis that describes the effect of the rule on small entities (i.e., small businesses, small organizations, and small government jurisdictions). However, no regulatory flexibility analysis is required if the head of an agency certifies that the rule will not have a significant economic impact on a substantial number of small entities. Thus, for a regulatory flexibility analysis to be required, impacts must exceed a threshold for “significant impact” and a threshold for a “substantial number of small entities.” See 5 U.S.C. 605(b). SBREFA amended the Regulatory Flexibility Act to require Federal agencies to provide a statement of the factual basis for certifying that a rule will not have a significant economic impact on a substantial number of small entities.

This rule adds one NWR to the list of refuges open to sport fishing, and increases hunting or fishing activities on nine additional refuges. As a result, visitor use for wildlife-dependent recreation on these NWRs will change. If the refuges establishing new programs were a pure addition to the current supply of those activities, it would mean an estimated increase of 914 user days (one person per day participating in a recreational opportunity, Table 2). Because the participation trend is flat in these activities since 1991, this increase in supply will most likely be offset by other sites losing participants. Therefore, this is likely to be a substitute site for the activity and not necessarily an increase in participation rates for the activity.

Table 2—Estimated Change in Recreation Opportunities in 2017/2018
[Dollars in thousands]
Refuge | Additional days | Additional expenditures
Baskett Slough | 2 | $0.1
Des Lacs | 50 | 2.0
Fox River | 5 | 0.2
Horicon | 187 | 7.4
Minnesota Valley | 0 | 0.0
Patoka River | 0 | 0.0
Savannah River | 315 | 12.4
Sequoyah | 5 | 0.2
Siletz Bay | 150 | 6.3
Upper Souris | 200 | 7.9
Total | 914 | 36.4

To the extent visitors spend time and money in the area of the refuge that they would not have spent there anyway, they contribute new income to the regional economy and benefit local businesses. Due to the unavailability of site-specific expenditure data, we use the national estimates from the 2011 National Survey of Fishing, Hunting, and Wildlife Associated Recreation to identify expenditures for food and lodging, transportation, and other incidental expenses. Using the average expenditures for these categories with the maximum expected additional participation of the Refuge System yields approximately $36,400 in recreation-related expenditures (Table 2). By having ripple effects throughout the economy, these direct expenditures are only part of the economic impact of these recreational activities. Using a national impact multiplier for hunting activities (2.27) derived from the report “Hunting in America: An Economic Force for Conservation” and for fishing activities (2.40) derived from the report “Sportfishing in America” yields a total economic impact of approximately $83,500 (2016 dollars) (Southwick Associates, Inc., 2012). Using a local impact multiplier would yield more accurate and smaller results. However, we employed the national impact multiplier due to the difficulty in developing local multipliers for each specific region.

Since we know that most of the fishing and hunting occurs within 100 miles of a participant's residence, then it is unlikely that most of this spending would be “new” money coming into a local economy; therefore, this spending would be offset with a decrease in some other sector of the local economy. The net gain to the local economies would be no more than $83,500, and most likely considerably less. Since 80 percent of the participants travel less than 100 miles to engage in hunting and fishing activities, their spending patterns would not add new money into the local economy and, therefore, the real impact would be on the order of about $16,700 annually.

Small businesses within the retail trade industry (such as hotels, gas stations, taxidermy shops, bait-and-tackle shops, and similar businesses) may be affected by some increased or decreased refuge visitation. A large percentage of these retail trade establishments in the local communities around NWRs qualify as small businesses (Table 3). We expect that the incremental recreational changes will be scattered, and so we do not expect that the rule will have a significant economic effect on a substantial number of small entities in any region or nationally. As noted previously, we expect approximately $36,400 to be spent in total in the refuges' local economies. The maximum increase at most would be less than one-hundredth of 1 percent for local retail trade spending (Table 3).

Table 3—Comparative Expenditures for Retail Trade Associated With Additional Refuge Visitation for 2017/2018
[Thousands, 2016 dollars]
Refuge/county(ies) | Retail trade in 2012 | Estimated maximum addition from new activities | Addition as % of total | Establishments in 2012 | Establ. with <10 emp in 2012
Baskett Slough:
Polk, OR | $377,029 | $0.1 | <0.01 | 125 | 89
Des Lacs:
Burke, ND | 1,988,596 | 1.0 | <0.01 | 293 | 169
Ward, ND | 40,290 | 1.0 | <0.01 | 10 | 6
Fox River:
Marquette, WI | 74,141 | 0.2 | <0.01 | 35 | 27
Horicon:
Dodge, WI | 870,743 | 3.7 | <0.01 | 234 | 159
Fond du Lac, WI | 1,465,969 | 3.7 | <0.01 | 354 | 225
Minnesota Valley:
Carver, MN | 948,923 |  |  | 209 | 132
Dakota, MN | 6,779,786 |  |  | 1,132 | 689
Hennepin, MN | 25,012,109 |  |  | 4,209 | 2,657
Le Sueur, MN | 220,214 |  |  | 84 | 58
Scott, MN | 1,397,711 |  |  | 323 | 215
Sibley, MN | 79,291 |  |  | 54 | 39
Patoka River:
Gibson, IN | 582,859 |  |  | 120 | 84
Pike, IN | 75,823 |  |  | 31 | 23
Savannah River:
Chatham, GA | 4,449,471 | 6.2 | <0.01 | 1,198 | 851
Effingham, GA | 374,811 | 6.2 | <0.01 | 108 | 79
Jasper, SC | 600,879 | 6.2 | <0.01 | 104 | 80
Sequoyah:
Haskell, OK | 149,403 | 0.1 | <0.01 | 33 | 22
Muskogee, OK | 970,020 | 0.1 | <0.01 | 258 | 178
Sequoyah, OK | 405,258 | 0.1 | <0.01 | 116 | 86
Siletz Bay:
Lincoln, OR | 607,106 | 6.3 | <0.01 | 241 | 310
Upper Souris:
Renville, ND | 84,795 | 3.9 | <0.01 | 12 | 10
Ward, ND | 1,988,596 | 3.9 | <0.01 | 293 | 169

With the small change in overall spending anticipated from this rule, it is unlikely that a substantial number of small entities will have more than a small impact from the spending change near the affected refuges. Therefore, we certify that this rule will not have a significant economic effect on a substantial number of small entities as defined under the Regulatory Flexibility Act (5 U.S.C. 601 et seq.). A regulatory flexibility analysis is not required. Accordingly, a small entity compliance guide is not required.

Small Business Regulatory Enforcement Fairness Act

This rule is not a major rule under 5 U.S.C. 804(2), the Small Business Regulatory Enforcement Fairness Act. We anticipate no significant employment or small business effects. This rule:

a. Will not have an annual effect on the economy of $100 million or more. The minimal impact will be scattered across the country and will most likely not be significant in any local area.

b. Will not cause a major increase in costs or prices for consumers; individual industries; Federal, State, or local government agencies; or geographic regions. This rule will have only a slight effect on the costs of hunting opportunities for Americans. If the substitute sites are farther from the participants' residences, then an increase in travel costs will occur. The Service does not have information to quantify this change in travel cost but assumes that, since most people travel less than 100 miles to hunt, the increased travel cost will be small. We do not expect this rule to affect the supply or demand for hunting opportunities in the United States, and, therefore, it should not affect prices for hunting equipment and supplies, or the retailers that sell equipment.

c. Will not have significant adverse effects on competition, employment, investment, productivity, innovation, or the ability of U.S.-based enterprises to compete with foreign-based enterprises. This rule represents only a small proportion of recreational spending at NWRs. Therefore, this rule will have no measurable economic effect on the wildlife-dependent industry, which has annual sales of equipment and travel expenditures of $72 billion nationwide.

Unfunded Mandates Reform Act

Since this rule will apply to public use of federally owned and managed refuges, it will not impose an unfunded mandate on State, local, or Tribal governments or the private sector of more than $100 million per year. The rule will not have a significant or unique effect on State, local, or Tribal governments or the private sector. A statement containing the information required by the Unfunded Mandates Reform Act (2 U.S.C. 1531 et seq.) is not required.

Takings (E.O. 12630)

In accordance with E.O. 12630, this rule will not have significant takings implications. This rule will affect only visitors at NWRs and describe what they can do while they are on a refuge.

Federalism (E.O. 13132)

As discussed in Regulatory Planning and Review and Unfunded Mandates Reform Act, above, this rule will not have sufficient federalism implications to warrant the preparation of a federalism summary impact statement under E.O. 13132. In preparing this rule, we worked with State governments.

Civil Justice Reform (E.O. 12988)

In accordance with E.O. 12988, the Department of the Interior has determined that this rule will not unduly burden the judicial system and that it meets the requirements of sections 3(a) and 3(b)(2) of the Order. The rule will clarify established regulations and result in better understanding of the regulations by refuge visitors.

Energy Supply, Distribution or Use (E.O. 13211)

On May 18, 2001, the President issued E.O. 13211 on regulations that significantly affect energy supply, distribution, and use. E.O. 13211 requires agencies to prepare Statements of Energy Effects when undertaking certain actions. Because this rule will add one NWR to the list of refuges open to sport fishing and increase hunting or fishing activities on nine other NWRs, it is not a significant regulatory action under E.O. 12866, and we do not expect it to significantly affect energy supplies, distribution, or use. Therefore, this action is not a significant energy action, and no Statement of Energy Effects is required.

Consultation and Coordination With Indian Tribal Governments (E.O. 13175)

In accordance with E.O. 13175, we have evaluated possible effects on federally recognized Indian tribes and have determined that there are no effects. We coordinate recreational use on NWRs with Tribal governments having adjoining or overlapping jurisdiction before we propose the regulations.

Paperwork Reduction Act (PRA)

This rule does not contain any new collection of information that requires approval by the Office of Management and Budget (OMB) under the PRA of 1995 (44 U.S.C. 3501 et seq.). OMB has approved the information collection requirements associated with regulations implementing refuge-specific hunting and sport fishing regulations and has assigned OMB control numbers 1018-0102 (expires August 31, 2020), 1018-0140 (expires May 31, 2018), and 1018-0153 (expires December 31, 2018). An agency may not conduct or sponsor and a person is not required to respond to a collection of information, unless it displays a currently valid OMB control number.

Endangered Species Act Section 7 Consultation

We comply with section 7 of the Endangered Species Act of 1973, as amended (16 U.S.C. 1531 et seq.), when developing comprehensive conservation plans and step-down management plans—which would include hunting and/or fishing plans—for public use of refuges, and prior to implementing any new or revised public recreation program on a refuge as identified in 50 CFR 26.32. We have completed section 7 consultation on each of the affected refuges.

National Environmental Policy Act

We analyzed this rule in accordance with the criteria of the National Environmental Policy Act of 1969 (NEPA) (42 U.S.C. 4332(C)), 43 CFR part 46, and 516 Departmental Manual (DM) 8.

A categorical exclusion from NEPA documentation applies to publication of amendments to refuge-specific hunting and fishing regulations because they are technical and procedural in nature, and the environmental effects are too broad, speculative, or conjectural to lend themselves to meaningful analysis (43 CFR 46.210 and 516 DM 8). Concerning the actions that are the subject of this rulemaking, we have complied with NEPA at the project level when developing each proposal. This is consistent with the Department of the Interior instructions for compliance with NEPA where actions are covered sufficiently by an earlier environmental document (43 CFR 46.120).

Prior to the addition of a refuge to the list of areas open to hunting and fishing in 50 CFR part 32, we develop hunting and fishing plans for the affected refuges. We incorporate these proposed refuge hunting and fishing activities in the refuge comprehensive conservation plan and/or other step-down management plans, pursuant to our refuge planning guidance in 602 Fish and Wildlife Service Manual (FW) 1, 3, and 4. We prepare these comprehensive conservation plans and step-down plans in compliance with section 102(2)(C) of NEPA, and the Council on Environmental Quality's regulations for implementing NEPA in 40 CFR parts 1500 through 1508. We invite the affected public to participate in the review, development, and implementation of these plans. Copies of all plans and NEPA compliance are available from the refuges at the addresses provided below.

Available Information for Specific Refuges

Individual refuge headquarters have information about public use programs and conditions that apply to their specific programs and maps of their respective areas. To find out how to contact a specific refuge, contact the appropriate Regional office listed below:

Region 1—Hawaii, Idaho, Oregon, and Washington. Regional Chief, National Wildlife Refuge System, U.S. Fish and Wildlife Service, Eastside Federal Complex, Suite 1692, 911 NE. 11th Avenue, Portland, OR 97232-4181; Telephone (503) 231-6214.

Region 2—Arizona, New Mexico, Oklahoma, and Texas. Regional Chief, National Wildlife Refuge System, U.S. Fish and Wildlife Service, P.O. Box 1306, 500 Gold Avenue SW., Albuquerque, NM 87103; Telephone (505) 248-6937.

Region 3—Illinois, Indiana, Iowa, Michigan, Minnesota, Missouri, Ohio, and Wisconsin. Regional Chief, National Wildlife Refuge System, U.S. Fish and Wildlife Service, 5600 American Blvd. West, Suite 990, Bloomington, MN 55437-1458; Telephone (612) 713-5360.

Region 4—Alabama, Arkansas, Florida, Georgia, Kentucky, Louisiana, Mississippi, North Carolina, South Carolina, Tennessee, Puerto Rico, and the Virgin Islands. Regional Chief, National Wildlife Refuge System, U.S. Fish and Wildlife Service, 1875 Century Boulevard, Atlanta, GA 30345; Telephone (404) 679-7166.

Region 5—Connecticut, Delaware, District of Columbia, Maine, Maryland, Massachusetts, New Hampshire, New Jersey, New York, Pennsylvania, Rhode Island, Vermont, Virginia, and West Virginia. Regional Chief, National Wildlife Refuge System, U.S. Fish and Wildlife Service, 300 Westgate Center Drive, Hadley, MA 01035-9589; Telephone (413) 253-8307.

Region 6—Colorado, Kansas, Montana, Nebraska, North Dakota, South Dakota, Utah, and Wyoming. Regional Chief, National Wildlife Refuge System, U.S. Fish and Wildlife Service, 134 Union Blvd., Lakewood, CO 80228; Telephone (303) 236-8145.

Region 7—Alaska. Regional Chief, National Wildlife Refuge System, U.S. Fish and Wildlife Service, 1011 E. Tudor Rd., Anchorage, AK 99503; Telephone (907) 786-3545.

Region 8—California and Nevada. Regional Chief, National Wildlife Refuge System, U.S. Fish and Wildlife Service, 2800 Cottage Way, Room W-2606, Sacramento, CA 95825; Telephone (916) 414-6464.

Primary Author

Katherine Harrigan, Division of Natural Resources and Conservation Planning, National Wildlife Refuge System, is the primary author of this rulemaking document.

List of Subjects in 50 CFR Part 32

Fishing, Hunting, Reporting and recordkeeping requirements, Wildlife, Wildlife refuges.

Regulation Promulgation

For the reasons set forth in the preamble, we amend title 50, chapter I, subchapter C of the Code of Federal Regulations as follows:

PART 32—HUNTING AND FISHING

1. The authority citation for part 32 continues to read as follows:

Authority: 5 U.S.C. 301; 16 U.S.C. 460k, 664, 668dd-668ee, and 715i.

§ 32.7 [Amended]

2. Amend § 32.7 by

a. Adding in alphabetical order an entry for “ “Kankakee National Wildlife Refuge” in the State of Illinois; and

b. Adding in alphabetical order an entry for “Loess Bluffs National Wildlife Refuge” and removing the entry for “Squaw Creek National Wildlife Refuge” in the State of Missouri.

3. Amend § 32.23 in the entry for Dale Bumpers White River National Wildlife Refuge by:

a. Removing the second, duplicate appearance of paragraph A.16;

b. Adding paragraph A.17;

c. Revising paragraphs A.18 through A.20, C.2 through C.5, C.8, and C.18;

d. Adding paragraphs C.20 and C.21; and

e. Revising paragraph D.1.

The additions and revisions read as follows:

§ 32.23 Arkansas.

* * * * *

Dale Bumpers White River National Wildlife Refuge

A. * * *

* * * * *

17. We prohibit the use of decoys that contain moving parts or electrical components, except that you may use manually operated 'jerk strings' to simulate decoy movement.

18. You may not utilize a guide, guide service, outfitter, club, organization, or any other person who provides equipment, services, or assistance on the refuge for compensation.

19. We prohibit commercial guiding for the take of wildlife or fish.

20. We allow camping only in designated sites and areas identified in the refuge user brochure/permit (signed brochure), and we restrict camping to individuals involved in wildlife-dependent activities. We limit camping on the refuge to no more than 14 days during any 30 consecutive-day period. Campers must occupy camps daily. We prohibit all disturbances, including use of generators, after 10 p.m.

* * * * *

C. * * *

* * * * *

2. Archery deer seasons on the North Unit are from the beginning of October until the end of January except during quota muzzleloader and quota gun deer hunts, when the archery season is closed. We provide annual season dates and bag limits in the refuge user brochure/permit (signed brochure).

3. Archery deer seasons on the South Unit are from the beginning of October until the end of December except during quota muzzleloader and quota gun deer hunts, when the archery season is closed. We provide annual season dates and bag limits in the refuge user brochure/permit (signed brochure).

4. Muzzleloader season for deer will begin in October and will continue for a period of up to 3 days of quota hunting and 4 days of non-quota hunting in the North Unit. We provide annual season dates and bag limits in the refuge user brochure/permit (signed brochure).

5. The gun deer hunt will begin in November and will continue for a period of 3 days of quota hunting in the North and South Units, and 4 days of non-quota hunting in the North Unit. We provide annual season dates, bag limits, and areas in the refuge user brochure/permit.

* * * * *

8. If you harvest deer or turkey on the refuge, you must immediately record the zone number (Zone 145 for the South Unit or Zone 146 for the North Unit) on your hunting license and later check deer and/or turkey through the State checking system. Outlying tracts use the same zone number as the surrounding State zone.

* * * * *

18. We close the Kansas Lake Area to all entry on December 1 and reopen it on March 1.

* * * * *

20. We prohibit the possession and/or use of toxic shot by hunters using shotguns (see § 32.2(k) of this chapter) when hunting.

21. Feral hog regulations are found in the refuge brochure/permit (signed brochure).

D. * * *

1. Conditions A1, A9, A10, A11, A15, and A21 through A25 apply.

* * * * *

4. Amend § 32.24 by:

a. Revising paragraph A.3 under the entry Colusa National Wildlife Refuge;

b. Revising paragraph A.3 under the entry Delevan National Wildlife Refuge;

c. Revising paragraph A.3 under the entry Sacramento National Wildlife Refuge; and

d. Revising paragraph C.3 under the entry Sacramento River National Wildlife Refuge.

The revisions read as follows:

§ 32.24 California.

* * * * *

Colusa National Wildlife Refuge

A. * * *

3. Junior hunters age 15 or younger must be accompanied by, and remain within sight and normal voice contact of, an adult (age 18 or older) at all times while hunting.

* * * * *

Delevan National Wildlife Refuge

A. * * *

3. Junior hunters age 15 or younger must be accompanied by, and remain within sight and normal voice contact of, an adult (age 18 or older) at all times while hunting.

* * * * *

Sacramento National Wildlife Refuge

A. * * *

3. Junior hunters age 15 or younger must be accompanied by, and remain within sight and normal voice contact of, an adult (age 18 or older) at all times while hunting.

* * * * *

Sacramento River National Wildlife Refuge

* * * * *

C. * * *

3. We prohibit using dogs while hunting feral hogs and black-tailed deer.

* * * * *

5. Amend § 32.25 by revising paragraph D under the entry Rocky Mountain Arsenal to read as follows:

§ 32.25 Colorado.

* * * * *

Rocky Mountain Arsenal

* * * * *

D. Sport Fishing. We allow fishing at designated times and on designated areas of the refuge in accordance with State regulations and subject to the following conditions:

1. We allow fishing from the third Saturday in April to the second Sunday in October.

2. We allow fishing on Tuesday, Saturday, and Sunday from legal sunrise to sunset.

3. You must possess a signed refuge fishing permit (signed refuge fishing brochure), when fishing, for all anglers age 16 and older. Refuge brochures are available at the refuge visitor center, fishing fee stations, and on the refuge's Web site (https://www.fws.gov/refuge/rocky_mountain_arsenal/).

4. You must stop and pay the daily fishing recreation fee for each licensed angler age 16 and older. Payments are made at self-serving fishing fee stations, and you must display a receipt of payment or an annual pass while fishing.

5. We allow bank fishing only at Lake Mary and Lake Ladora.

6. We allow wade fishing only in Lake Ladora after Memorial Day.

7. We only allow the use of one rod and reel or pole and line with one hook per line.

8. We only allow barbless hooks.

9. We only allow artificial lures and flies on Lake Ladora. We allow artificial lures and flies and artificial bait, cut bait, and food products only on Lake Mary.

10. We prohibit the use of live bait on all refuge waters.

11. We only allow catch and release fishing.

12. We prohibit the possession and consumption of alcoholic beverages while fishing.

6. Amend § 32.27 by revising the entry for Prime Hook National Wildlife Refuge to read as follows:

§ 32.27 Delaware.

* * * * *

Prime Hook National Wildlife Refuge

A. Migratory Game Bird Hunting. We allow the hunting of waterfowl, coot, mourning dove, snipe, and woodcock on designated areas of the refuge during designated seasons in accordance with State regulations and subject to the following conditions:

1. General Hunting Regulations.

i. Anyone age 16 or older, regardless of license status, must obtain a migratory bird hunting permit (Migratory Bird Hunt Application, FWS Form 3-2357) to hunt or enter hunt areas, except non-hunting assistants assisting disabled hunters in the disabled area. You must print and validate your permit (name/address/phone) with your signature, in ink, and retain it on your person while hunting or scouting.

ii. You must abide by the terms and conditions outlined in the refuge hunt brochure (see § 32.2(e) of this chapter). Brochures contain information on seasons, bag limits, methods of hunting, maps depicting areas open to hunting, hunt unit reservation procedures, and the terms and conditions under which we issue hunting permits. They are available at the visitor center, at the administration office, and on the refuge's Web site (see § 32.2(f) of this chapter).

iii. You, and those who accompany you who are age 16 or older, must possess and carry the following at all times while on refuge property: A valid Delaware hunting license or document exhibiting your License Exempt Number (LEN), all required State and Federal stamps, a valid form of government-issued photo identification, a signed refuge hunt brochure appropriate for the hunt in question, and a printed valid hunting permit. We will not accept photocopies or electronic copies of these documents.

iv. Youths age 15 or younger must be accompanied by a supervisor age 18 or older who possesses all documents required in A.1.iii, including non-hunting assistants. All supervisors may only be accompanied by one youth. Youths must possess and carry a signed refuge waterfowl hunt brochure and an LEN or license in accordance with State law. The youth must remain within sight and normal voice contact of the supervisor at all times while hunting on the refuge.

v. Other than using motor vehicles on designated roads, you may only access the refuge by foot, except as authorized by the refuge manager.

vi. You may use trained dogs to assist in retrieval of harvested game.

vii. You must notify and receive permission from a Service law enforcement officer, refuge manager, or designee if you need to retrieve game from a closed refuge area or a hunting area for which you do not possess a valid permit (see § 26.21(a) of this chapter).

viii. You must park in designated areas. We prohibit parking in front of any gate. Parked vehicles may not impede any road traffic (see § 27.31(h) of this chapter).

ix. You may enter the refuge up to 2 hours before legal morning shooting time. You must stop hunting by 3 p.m. and leave the hunting area or unit by 4 p.m., except when snow goose hunting, in the designated snow goose area, during the snow goose conservation order season.

x. You must complete and return a Migratory Bird Hunt Report (FWS Form 3-2361), available at the refuge administration office or on the refuge's Web site, within 15 days of the close of the season.

xi. We prohibit the use of natural vegetation for camouflaging blind material (see § 27.51(a) of this chapter).

xii. We prohibit entry to designated safety zones as identified by polygons on the refuge map.

xiii. You may access the Lottery Waterfowl hunt area by boat. The maximum horsepower allowed for boat motors is 30 horsepower (HP). You must abide by the slow, no-wake zones on designated portions of refuge waterways as depicted in maps or within the brochure.

xiv. We allow the use of non-motorized boats within the Walk-in Hunt Area. Boats may be transported to refuge waters by hand or by the use of a cart.

2. General and Disabled Waterfowl Draw Hunt Areas.

i. You must obtain a Daily General or Disabled Waterfowl Draw Area Permit (signed brochure), which reserves your hunt unit/area/site in advance for a specific date using an online system. Only hunters age 16 or older may reserve a hunt unit.

ii. You must print and validate your Daily Waterfowl Draw Area Permit (signed brochure) with your signature in ink.

iii. You must hunt from your boat or, if applicable, provided blind. You must hunt within 75 feet (22.9 meters) of your designated site.

iv. We allow you to have up to two additional hunters accompany you on your reserved site.

v. Disabled Waterfowl Draw Area.

a. All disabled hunters must possess and carry a State of Delaware Certified Hunter with Disabilities Card while hunting in disabled areas. We will not accept photocopies or electronic copies of these forms.

b. Disabled hunters may have a non-hunting assistant who is age 18 or older. The assistant must remain within sight and normal voice contact; must not be engaged in hunting; and must possess a valid refuge hunt brochure signed in ink and a valid government-issued photo identification. Any assistant engaged in hunting must possess and carry all documents as specified in A.1.iii.

c. We do not allow assistants to enter a designated disabled hunting area unless they are accompanied by a certified disabled hunter.

d. We do not require assistants to maintain sight and normal voice contact while retrieving game.

B. Upland Game Hunting. We allow hunting of rabbit, quail, pheasant, and red fox on designated areas of the refuge in accordance with State regulations and subject to the following conditions:

1. A.1.i. through A.1.viii. and A.1.xii. apply.

2. We prohibit shooting a projectile from a firearm, muzzleloader, bow, or crossbow from, down, or across any refuge road. A refuge road is any road that is traveled by vehicular traffic.

3. You must make a reasonable effort to retrieve all wounded or killed game and include it in your daily bag limit. We prohibit leaving entrails or other waste within 50 feet (15.2 meters) of any road, parking area, trail, or refuge structure on the refuge.

4. You must use daylight florescent orange in accordance with State regulations (see § 32.2(d) of this chapter).

5. You may enter the refuge no earlier than 1 hour before legal morning shooting time and you must exit the refuge by 1 hour after legal sunset.

6. We prohibit the use of centerfire and rimfire rifles.

C. Big Game Hunting. We allow hunting of white-tailed deer and turkey on designated areas of the refuge in accordance with State regulations and subject to the following conditions:

1. General Hunt Regulations.

i. Conditions A.1.i. through A.1.v., A.1.vii., A.1.viii., A.1.xii., B2, and B3 apply.

ii. We prohibit organized deer drives.

iii. We allow the use of temporary tree stands and blinds for hunting. All stands and blinds left on refuge property unoccupied must be tagged in plain sight with your permit number and the years that are printed on your permit. You must remove all stands and blinds by legal sunset of a date established annually by the refuge manager. We are not responsible for damage, theft, or use of the stand by other hunters.

iv. You may use marking devices, including flagging or tape, but you must remove them by legal sunset on a date established annually by the refuge manager. You may not use paint or any other permanent marker to mark trails.

v. You must use daylight florescent orange in accordance with State regulations during all designated firearm and muzzleloader deer hunts (see § 32.2(d) of this chapter).

2. General and Disabled Deer Draw Hunt Areas.

i. Youth hunters must obtain a hunting permit before applying for a General and Disabled Deer Draw Area Permit (signed brochure). Hunters age 15 or younger must obtain a hunting permit; however, A.1.iv. still applies.

ii. You must obtain a Daily General or Disabled Deer Draw Area Permit (signed brochure), which reserves your hunt unit/area/site in advance for a specific date using an online system.

iii. You must print and sign your Daily Deer Draw Area Permit (signed brochure) in ink.

3. For designated disabled hunt areas, A.2.v. applies.

D. Sport Fishing. We allow fishing and crabbing on designated areas of the refuge in accordance with State regulations and subject to the following conditions:

1. Conditions A.1.i. through A.1.iv. apply for those age 17 and older.

2. All youth age 16 or younger must be accompanied by a licensed angler age 18 or older who possesses all documents required in D.1.i.

3. The refuge is open from ½ hour before legal sunrise to ½ hour after legal sunset.

4. Other than using motor vehicles on designated roads, you may only access the refuge by foot, except as authorized by the refuge manager.

5. We allow fishing and crabbing from boats and from designated areas of the refuge, on designated days, during designated times, routes of travel, waterways, and launch sites.

i. You must remove boats from the water by legal sunset.

ii. When on Turkle and Fleetwood Ponds, you may only propel boats manually or with electric motors.

iii. We allow a maximum of 30 horsepower (HP) outboard or motor.

iv. You must abide by the slow, no-wake zones on designated portions of refuge waterways as depicted in maps or within the brochure.

6. Fishing tackle and crabbing gear:

i. You must use hook-and-line tackle when fishing for finfish.

ii. You may use only hand lines, crab dip nets, hoop crab nets, and/or manually operated crab traps (collapsible traps) in any combination for crabbing.

iii. You must attend to your crabbing and fishing lines or gear at all times.

7. Amend § 32.28 by:

a. Under the entry Lake Woodruff National Wildlife Refuge:

i. Revising paragraphs C.1, C.2, C.8, and C.16;

ii. Adding paragraphs C.17 and C.18;

iii. Removing paragraph D.5; and

iv. Redesignating paragraph D.6 as D.5;

b. Under the entry Lower Suwanee National Wildlife Refuge:

i. Revising paragraphs A.9, A.12, and A.14; and

ii. Adding paragraph D.4; and

c. Under the entry Merritt Island National Wildlife Refuge:

i. Revising paragraphs A.3 through A.6;

ii. Adding paragraphs A.10 and A.11;

iii. Revising paragraphs A.14, A.16, C.8, C.15, C.16, C.24, and D.3;

iv. Removing paragraph D.9;

v. Redesignating paragraphs D.10 through D.14 as D.9 through D.13, respectively;

vi. Removing paragraph D.15;

vii. Redesignating paragraphs D.16 and D.17 as D.14 and D.15, respectively;

viii. Revising newly redesignated paragraph D. 14; and

ix. Removing paragraph D.18.

The additions and revisions read as follows:

§ 32.28 Florida.

* * * * *

Lake Woodruff National Wildlife Refuge

* * * * *

C. * * *

1. You must have a valid signed Lake Woodruff National Wildlife Refuge Big Game Permit (signed brochure). The permits (signed brochure) are free and nontransferable, and anyone on refuge land engaged in hunting must sign and carry the permit at all times.

2. You must obtain a State-issued Lake Woodruff Quota Hunt Permit (Quota Permit), which can be purchased through Florida Fish and Wildlife Conservation Commission (FWC). You must have on your person all applicable Florida hunting licenses and permits. State requirements for hunter safety apply.

* * * * *

8. Hunting areas on the refuge are seasonally closed to all public use except to permitted hunters during the season, and are marked on refuge maps. The refuge is closed between legal sunset and legal sunrise, except permitted hunters may access the refuge 2 hours prior to legal sunrise each hunting day. All hunters must leave the refuge within 2 hours of legal sunset.

* * * * *

16. Archery hunters must wear a vest or jacket containing back and front panels of at least 500 square inches (3,226 square centimeters) of solid-fluorescent-orange color when moving to and from their vehicle, to their deer stand or their hunting spot, and while tracking or dragging out deer.

17. We prohibit using dogs for tracking unless authorized by a Federal wildlife officer. Dogs must remain on a leash and be equipped with a GPS tracking device.

18. It is unlawful to drive nails, spikes, or other metal objects into any tree, or to hunt from any tree in which a metal object has been driven (see § 32.2(i) of this chapter).

* * * * *

Lower Suwanee National Wildlife Refuge

A. * * *

9. In addition to State hunter-education requirements, an adult (parent or guardian) age 21 or older must supervise and must remain within sight of and in normal voice contact of the youth hunter age 15 or younger. Parents or adult guardians are responsible for ensuring that hunters age 15 and younger do not engage in conduct that would constitute a violation of refuge regulations. An adult may not supervise more than two youths.

* * * * *

12. We prohibit marking any tree, or other refuge feature, with flagging, litter, paint, tacks, spider eyes, or blaze.

* * * * *

14. You may leave a temporary tree stand on refuge property starting 1 week before archery season, but you must remove it by the last day of hog season. All tree stands left on the refuge within the hunt season must display the hunter's name and hunting license number legibly written on or attached to the stand. We may seize and dispose of any tree stands not in compliance, according to Federal regulations. You may also use a temporary tree stand during small game season, but you must remove it by the last day of small game season.

* * * * *

D. * * *

4. We prohibit the use or possession of alcohol while fishing.

* * * * *

Merritt Island National Wildlife Refuge

A. * * *

3. You must carry (or hunt within 30 yards of a hunter who possesses) a valid State-issued Merritt Island Waterfowl Quota Permit (Waterfowl Quota Permit), which can be purchased through the Florida Fish and Wildlife Conservation Commission (FWC) while hunting in areas 1 or 4 from the beginning of the regular waterfowl season through the end of January. The Waterfowl Quota Permit can be used for a single party consisting of the permit holder and up to three guests. The permit holder must be present.

4. During the State's waterfowl season, we allow hunting on Wednesdays, Saturdays, Sundays, and the following Federal holidays: Thanksgiving, Christmas, and New Year's Day.

5. We allow hunting in four designated areas of the refuge as delineated in the refuge hunting regulations map. We prohibit hunters entering the normal or expanded restricted areas of the Kennedy Space Center (KSC). Merritt Island National Wildlife Refuge and KSC maintain the right to close any portion of the refuge for any length of time. In that case, we will not refund or reissue any permits.

6. We allow hunting of waterfowl on refuge-established hunt days from ½ hour before legal sunrise until 12 p.m. (noon). Hunters must remove all equipment and check out at the refuge check station prior to 1 p.m. daily.

* * * * *

10. We prohibit accessing a hunt area from Black Point Wildlife Drive, Playalinda Beach Road (Beach Road), and Scrub Ridge Trail. We prohibit launching a boat and leaving vehicles parked for hunting purposes on Black Point Wildlife Drive, Playalinda Beach Road (Beach Road), or Scrub Ridge Trail.

11. We prohibit construction of permanent blinds or digging into dikes (see § 27.92 of this chapter).

* * * * *

14. You must leave the refuge by 1 p.m. Prior to that, you must stop at posted refuge waterfowl check stations and report statistical hunt information on the Migratory Bird Hunt Report (FWS Form 3-2361) to refuge personnel.

* * * * *

16. You may use gasoline or diesel motors only inside the impoundment perimeter ditch. Outside the perimeter ditch, vessels must be propelled by paddling, push pole, or electric trolling motor.

* * * * *

C. * * *

8. You are prohibited from entering the normal or expanded restricted areas of KSC. Merritt Island National Wildlife Refuge and KSC maintain the right to close any portion of the refuge for any length of time. In that case, we will not refund or reissue any permits.

* * * * *

15. We allow legally permitted hunters to scout within their permitted zones up to 7 days prior to their permitted hunts. You must carry your valid Quota Hunt Permit identifying the permitted hunt zone while scouting. You may not possess hunting weapons while scouting.

16. We allow parking for scouting and/or hunting only along State Road (SR) 3, but not within the hunt areas or on any road marked as “Area Closed.”

* * * * *

24. The bag limit and antler requirements for white-tailed deer on the refuge will follow State regulations but will not exceed two deer per hunt. We define antlered and antlerless deer according to State regulations.

* * * * *

D. * * *

3. You may launch boats for night fishing and boating activities only from Bair's Cove, Beacon 42, and Biolab boat ramps.

* * * * *

14. When inside the impoundment perimeter ditch, you may use gasoline or diesel motors. Outside the perimeter ditch, vessels must be propelled by paddling, push pole, or electric trolling motor.

* * * * *

8. Amend § 32.29 by revising paragraphs A, B, and C under the entry Savannah National Wildlife Refuge to read as follows:

§ 32.29 Georgia.

* * * * *

Savannah National Wildlife Refuge

A. Migratory Game Bird Hunting. We allow hunting of waterfowl and mourning dove on designated areas of the refuge in accordance with State regulations and subject to the following conditions:

1. All hunters age 16 and older must possess and carry a signed refuge hunt permit (name/address/phone) and a State license. We charge a fee for all hunt permits.

2. To participate in the youth waterfowl hunt, youth hunters must submit the Waterfowl Lottery Application (FWS Form 3-2355). You must pay an application fee to enter the hunt drawing.

3. We allow temporary blinds only. You must remove decoys and other personal property from the refuge daily (see § 27.93 of this chapter).

4. We allow shotguns for all migratory game bird hunting, but only with nontoxic shot size #2 or smaller.

5. Youth hunters, defined as those age 15 and younger, must remain within sight and normal voice contact of an adult age 21 or older; the adult must possess a valid hunting license for the State in which they are hunting. One adult may supervise no more than two youth hunters.

6. You may take feral hog and coyote during all refuge hunts (migratory bird, upland, and big game) with weapons authorized and legal for those hunts.

7. You may use retrieving dogs. Dogs must remain under direct and constant control of the hunter.

8. You must comply with all provisions of State and local law when possessing, transporting, or carrying firearms on national wildlife refuges. You may only use (discharge) firearms in accordance with refuge regulations (see § 27.42 of this chapter and specific refuge regulations in part 32.)

B. Upland Game Hunting. We allow hunting of squirrel and rabbit on designated areas of the refuge in accordance with State regulations and subject to the following conditions:

1. Conditions A1, A6, and A8 apply.

2. For squirrel hunting, we allow rimfire rifles, rimfire pistols, or shotguns with nontoxic shot size #2 shot or smaller. We recommend but do not require solid copper or other nontoxic rimfire bullets. For rabbit hunting, we allow shotguns, but only with nontoxic shot size #2 or smaller.

3. You may not hunt on or within 100 yards (90 meters) of public roads, refuge facilities, roads and trails, and railroad rights-of-way, or in closed areas.

4. You may not use dogs for upland game hunting.

5. During the period when upland game hunting coincides with the refuge gun hunt for deer and hogs, you must wear an outer garment containing a minimum of 500 square inches (3,226 square centimeters) of hunter-orange material above the waistline.

6. Youth hunters, defined as those age 15 and younger, must remain within sight and normal voice contact of an adult age 21 or older; the adult must possess a valid hunting license for the State in which they are hunting. One adult may supervise no more than one youth hunter.

C. Big Game Hunting. We allow hunting of white-tailed deer, turkey, feral hog, and coyote on designated areas of the refuge in accordance with State regulations and subject to the following conditions:

1. Conditions A1, A6, A8, B3, and B6 apply.

2. To participate in the gun hunt for wheelchair-dependent hunters, hunters must submit the Quota Deer Hunt Application (FWS Form 3-2354). To participate in the Youth Turkey Hunt & Learn Weekend, youth hunters must submit the Big/Upland Game Hunt Application (FWS Form 3-2356). You must pay an application fee to enter these hunt drawings.

3. To participate in the youth-only deer or turkey hunts, youth hunters must request a free hunt permit from the refuge headquarters.

4. You may only use bows, in accordance with State regulations, for deer, hog, and coyote hunting during the archery hunt for these species.

5. You may only use shotguns (20 gauge or larger, slugs only), center-fire rifles, center-fire pistols, muzzleloaders, and bows, in accordance with State regulations, for deer, hog, and coyote hunting during the firearm hunts for these species.

6. You must remove hunt stands following each day's hunt (see § 27.93 of this chapter).

7. Hunters may take as many as five deer (no more than two antlered). There is no bag limit on feral hog or coyote.

8. Turkey hunters may harvest only three gobblers (male turkey).

9. We allow only shotguns with nontoxic #2 shot or smaller, and bows, in accordance with State regulations, for turkey hunting. We prohibit the use of slugs or buckshot for turkey hunting.

10. We prohibit the use of trail or game cameras. We also prohibit the use of trail marking tacks, bright eyes, reflectors, reflecting tape, and any other markers, including biodegradable markers such as toilet paper and paper tape.

11. We prohibit the use of dogs for big game hunting.

* * * * *

9. Amend § 32.32 by adding in alphabetical order an entry for Kankakee National Wildlife Refuge to read as follows:

§ 32.32 Illinois.

* * * * *

Kankakee National Wildlife Refuge

A. Migratory Game Bird Hunting. [Reserved].

B. Upland Game Hunting. We allow hunting of wild turkey on the Kolar Savanna Unit in accordance with State seasons and regulations, and subject to the following condition: For hunting, you may possess only approved nontoxic shot shells while in the field, including shot shells used for hunting wild turkey (see § 32.2(k)).

C. Big Game Hunting. We allow hunting of white-tailed deer on the Kolar Savanna Unit in accordance with State seasons and regulations.

D. Sport Fishing. [Reserved].

* * * * *

10. Amend § 32.37 by:

a. Revising paragraph A.19 under the entry Bayou Sauvage National Wildlife Refuge;

b. Revising paragraphs A.14, C.3, C.5, and C.7 under the entry Bayou Teche National Wildlife Refuge;

c. Under the entry Big Branch Marsh National Wildlife Refuge:

i. Revising paragraphs A.15, C.5, C.6, D.5, and D.6; and

ii. Adding paragraph D.8;

d. Under the entry Bogue Chitto National Wildlife Refuge:

i. Revising paragraphs A.6, A.7, A.10, A.11, B.4, C.3, and C.8;

ii. Adding paragraphs C.11 and C.12; and

iii. Revising paragraph D.3;

e. Revising paragraphs B.2, B.7, and C.5 under the entry Catahoula National Wildlife Refuge;

f. Revising paragraph A.16 under the entry Delta National Wildlife Refuge; and

g. Revising paragraph A.12 under the entry Mandalay National Wildlife Refuge.

The additions and revisions read as follows:

§ 32.37 Louisiana.

* * * * *

Bayou Sauvage National Wildlife Refuge

A. * * *

19. We prohibit the use of any type of material used as flagging or trail markers, except reflective tacks.

* * * * *

Bayou Teche National Wildlife Refuge

A. * * *

14. We prohibit the use of any type of material used as flagging or trail markers, except reflective tacks.

* * * * *

C. * * *

3. We allow hunting in the Centerville, Garden City, Bayou Sale, North Bend East, and North Bend West Units. We do not allow hunting within 500 feet (152.4 meters) of the Garden City parking area and boardwalk. The Bayou Sale Unit is not open for big game firearm hunts.

* * * * *

5. You may take feral hogs only as incidental take while participating in the refuge deer archery hunt.

* * * * *

7. During deer gun seasons, all hunters, except waterfowl hunters, must wear and display 400 square inches (2,580.6 square centimeters) of unbroken hunter-orange or blaze pink as the outermost layer of clothing on the chest and back and a hunter-orange or blaze pink cap. Deer hunters hunting from concealed ground blinds must display a minimum of 400 square inches (2,580.6 square centimeters) of hunter-orange or blaze pink above or around their blinds; this must be visible from 360 degrees.

* * * * *

Big Branch Marsh National Wildlife Refuge

A. * * *

15. We prohibit all-terrain vehicles (ATVs) and utility-terrain vehicles (UTVs).

* * * * *

C. * * *

5. You may erect temporary deer stands 2 days prior to the start of deer archery season. You must remove all deer stands within 2 days after the archery deer season closes. You may place only one deer stand on the refuge. Deer stands must have the owner's name, address, and phone number clearly printed on the stand. Hunting stands are not allowed on trees painted with white bands. You must place stands in a non-hunting position when not in use (see § 27.93 of this chapter).

6. You may take hogs only as incidental take while participating in the refuge deer archery hunt.

* * * * *

D. * * *

5. We prohibit all commercial finfishing and shellfishing, including guiding, outfitting, lodging, club membership, or participating in a paid guided fishing trip (see § 27.97 of this chapter).

6. Conditions A6, A8, A9, and A14 through A17 apply.

* * * * *

8. You must attend to any fishing, crabbing, and crawfishing equipment at all times.

* * * * *

Bogue Chitto National Wildlife Refuge

A. * * *

6. An adult at least age 21 must supervise youth hunters during all hunts. State regulations define youth hunter age and hunter-education requirements. One adult may supervise two youths during small game hunts and migratory bird hunts but may supervise only one youth during big game hunts. Youths must remain within normal voice contact of the adult who is supervising them. Parents or adult guardians are responsible for ensuring that youth hunters do not engage in conduct that would constitute a violation of refuge regulations.

7. We prohibit hunting within 150 feet (45.7 meters) from the centerline of any public road, refuge road, designated or maintained trail, building, residence, designated camping area, or designated public facility, or from or across aboveground oil, gas, or electric facilities. We prohibit hunting in refuge-designated closed areas, which we post on the refuge and identify in the refuge hunt permits.

* * * * *

10. You may not act as a hunting guide, outfitter, or in any other capacity whereby another individual(s) pays or promises to pay directly or indirectly for services rendered. You may not provide payment to any other person or persons for hunting on the refuge, regardless of whether the payment is for guiding, outfitting, lodging, or club membership (see § 27.97 of this chapter).

11. We prohibit horses, trail cameras, all-terrain vehicles (ATVs), and utility-terrain vehicles (UTVs), except UTVs are allowed on designated physically challenged hunt trails for big game. We provide specific size and tire pressure restrictions for UTVs in the refuge hunt permit (signed brochure).

* * * * *

B. * * *

4. All hunters in Louisiana (including archery hunters and small game hunters), except waterfowl hunters, must wear and display not less than 400 square inches (2,580.6 square centimeters) of unbroken hunter-orange or blaze pink as the outermost layer of clothing on the chest and back and a hunter-orange cap during deer gun seasons. While walking to and from elevated stands, all deer hunters must display a minimum of 400 square inches (2,580.6 square centimeters) of hunter-orange or blaze pink or a hunter-orange or blaze pink hat. All hunters in Mississippi must wear at least 500 square inches (3,226 square centimeters) of hunter-orange or blaze pink; this replaces the 400 square inches (2,580.6 square centimeters) required in Louisiana. During the dog season for squirrels and rabbits, all hunters, except waterfowl hunters, must wear a hunter-orange or blaze pink hat. Deer hunters hunting from concealed blinds must display at least 400 square inches (2,580.6 square centimeters) of hunter-orange or blaze pink above or around their blinds; this must be visible from 360 degrees.

* * * * *

C. * * *

3. We allow archery deer hunting during the open State deer archery season. You may take deer of either sex in accordance with State regulations. The State season limits apply.

* * * * *

8. You may take hog as incidental game while participating in the refuge archery, primitive weapon, and general gun deer hunts and where otherwise specified. We list specific dates for the special hog hunts in February in the refuge hunt permit (signed brochure). During the special hog hunt in February, you must use trained hog-hunting dogs to aid in the take of hog. During the special hog hunt, you may take hog from ½ hour before legal sunrise until ½ hour after legal sunset. You may possess only approved nontoxic shot or pistol or rifle ammunition not larger than .22 caliber rimfire to take the hog after it has been caught by dogs. Condition A8 applies during special hog hunts in February.

* * * * *

11. We prohibit using shot larger than BB lead or T steel while hunting during turkey season.

12. We allow physically challenged big game hunters exclusive use of designated physically challenged hunt trails with limited use of UTVs in accordance with specific size and weight specifications. Specific hunt trails will be designated on the refuge hunt permit. Physically challenged hunters must pre-register hunting dates and specific location at the refuge office. An assistant may accompany the physically challenged hunter, but the assistant may not hunt.

D. * * *

3. We close the fishing ponds at the Pearl River Turnaround to fishing from April through the first full week of June and to boating during the months of April, May, June, and July.

* * * * *

Catahoula National Wildlife Refuge

* * * * *

B. * * *

2. At the Headquarters Unit, we only allow squirrel and rabbit hunting. We set seasons annually.

* * * * *

7. You may use shotguns for hunting but only with nontoxic shot and rifles .22 caliber rimfire or smaller. We prohibit possession of toxic shot when hunting.

C. * * *

5. We allow hunting of deer with primitive firearms during the first segment of the State season for area 1, weekdays only (Monday through Friday) and 2 days in December with these dates set annually. We allow either-sex, deer gun hunting for the Friday, Saturday, and Sunday immediately following Thanksgiving Day and for 2 days in December with these dates to be set annually.

* * * * *

Delta National Wildlife Refuge

A. * * *

16. We prohibit the use of any type of material used as flagging or trail markers, except reflective tacks.

* * * * *

Mandalay National Wildlife Refuge

A. * * *

12. We prohibit the use of any type of material used as flagging or trail markers, except reflective tacks.

* * * * *

11. Amend § 32.39 by:

a. Revising paragraphs A, C, D.2, and D.3 under the entry Blackwater National Wildlife Refuge; and

b. Revising paragraph C and D.4 under the entry Eastern Neck National Wildlife Refuge.

The revisions read as follows:

§ 32.39 Maryland.

* * * * *

Blackwater National Wildlife Refuge

A. Migratory Game Bird Hunting. We allow hunting of goose and duck on designated areas of the refuge in accordance with State regulations and subject to the following conditions:

1. You must obtain a refuge waterfowl hunting permit (signed brochure) by signing the corresponding season's refuge waterfowl hunting brochure in ink. You must abide by the terms and conditions outlined in the brochure (see § 32.2(e) of this chapter). Refuge waterfowl hunting brochures contain seasons, bag limits, methods of hunting, maps depicting areas open to hunting, hunt unit reservation procedures, and the terms and conditions under which we issue hunting permits. They are available at the refuge visitor center, administration office, and on the refuge's Web site.

2. You must reserve your hunt unit in advance for a specific date using the call reservation system. You must be age 18 or older to reserve a hunt unit.

3. Up to three additional hunters may accompany you on your reserved unit.

4. You and those who accompany you must possess on your person a valid Maryland hunting license and all required stamps, a valid form of government-issued photo identification, and a printed valid hunting permit (signed brochure) at all times while on refuge property. We will not accept photocopies or electronic copies of these forms.

5. We prohibit the use of natural vegetation for camouflaging blind material.

6. Other than using motor vehicles on designated roads, you may only access the refuge by foot, except as authorized by the refuge manager.

7. You may use trained dogs to assist in the retrieval of harvested birds.

* * * * *

C. Big Game Hunting. We allow the hunting of white-tailed and sika deer and turkey on designated areas of the refuge in accordance with State regulations and subject to the following conditions:

1. General Hunt Regulations.

i. Condition A6 applies.

ii. You must obtain a deer or turkey hunting permit (Big/Upland Game Hunt Application, FWS Form 3-2356 or Quota Deer Hunt Application, FWS Form 3-2354). Hunting brochures, hunting application procedures, seasons, bag limits, methods of hunting, maps depicting areas open to hunting, and the terms and conditions under which we issue hunting permits are available at the refuge visitor center, administration office, and on the refuge's Web site.

iii. You must possess on your person at all times while on refuge property: A valid Maryland hunting license and all required stamps, a valid form of government-issued photo identification, and a printed valid hunting permit (Big/Upland Game Hunt Application, FWS Form 3-2356 or Quota Deer Hunt Application, FWS Form 3-2354) issued by the refuge. We will not accept photocopies or electronic copies of these forms.

iv. You may not hunt from a permanently constructed tree stand or blind.

v. We prohibit organized deer drives, unless otherwise authorized by the refuge manager on designated hunt days.

vi. You must notify and receive permission from a Service law enforcement officer, refuge manager, or designee if you need to retrieve game from a refuge closed area or a hunting area for which you do not possess a valid permit.

vii. We prohibit shooting a projectile from a firearm, muzzleloader, bow, or crossbow from, down, or across any refuge road. A refuge road is any road that is traveled by vehicular traffic.

viii. We prohibit parking in front of any gate. Parked vehicles may not impede any road traffic (see § 27.31(h) of this chapter).

ix. You must make a reasonable effort to retrieve all wounded or killed game and include it in your daily bag limit. We prohibit leaving deer or turkey entrails or other waste within 50 feet (15.2 meters) of any road, parking area, trail, or refuge structure on the refuge.

x. We allow the use of temporary tree stands and blinds for hunting. All stands and blinds left on refuge property, unoccupied, must be tagged in plain sight with your permit number and the years that are printed on your permit. You must remove all stands and blinds by legal sunset of a date established annually by the refuge manager.

xi. We allow the use of marking devices, including flagging or tape, but you must remove them by legal sunset of a date established annually by the refuge manager. You may not use paint or any other permanent marker to mark trails.

xii. You must wear fluorescent orange in accordance with State regulations during all designated firearm and muzzleloader deer hunts.

xiii. You must check all deer harvested at the refuge-sponsored check station during hunt days when the refuge-sponsored check station is open. If you fail to check deer during operation hours of the check station, you must notify the hunt coordinator by noon on the day after your kill.

xiv. You must adhere to the bag limits set forth annually in the brochure. Deer harvested on the refuge do not count toward State bag limits but must be recorded and checked with the State. Deer harvested on the refuge must be checked pursuant to the refuge hunt in which they are taken, regardless of the weapon used or corresponding State season.

xv. The maximum speed limit on all refuge unpaved roads is 15 miles per hour (MPH).

xvi. We prohibit the use of rimfire or centerfire rifles and all handguns, including muzzleloading pistols, for hunting.

2. Archery Deer Hunt.

i. We do not allow archery hunters to hunt within areas designated for the youth hunt on designated days.

ii. Archery hunters are not required to wear fluorescent orange during State youth hunt days.

3. Turkey Hunt.

i. We allow you to take one bearded turkey per year; turkeys taken on the refuge count toward the State bag limit.

ii. We allow turkey hunt permit holders to have an assistant, who must remain within sight and normal voice contact.

a. Assistants must not be engaged in hunting; must read the turkey hunting brochure; and must sign, in ink, the permit (Big/Upland Game Hunt Application, FWS Form 3-2356 or Quota Deer Hunt Application, FWS Form 3-2354) of the person they are assisting.

b. Assistants must possess a valid government-issued photo identification on their person while assisting.

c. Assistants who call and/or set up decoys must possess a valid Maryland hunting license.

4. Youth Deer and Turkey Hunt.

i. We allow hunters to hunt on designated areas on designated days (Youth Hunt) if they meet the criteria of a “youth hunter” as defined by State law.

ii. Youth hunters must be accompanied by an assistant consistent with the regulations established by State law.

iii. All youth deer hunters and their assistants must wear fluorescent orange in accordance with State regulations while hunting in designated youth hunt areas.

iv. Assistants must possess a valid refuge hunt brochure, signed in ink, and a valid government-issued photo identification.

v. Deer taken during youth days do not count toward the State bag limit and are in addition to any other deer taken during any other hunts on the refuge.

vi. Deer and turkey taken must be recorded and checked with the State.

5. Designated Disabled Hunt Areas.

i. All disabled hunters must possess a Federal Government Access pass (OMB Control 1024-0252).

ii. Disabled hunters are required to have their Federal Government Access pass (OMB Control 1024-0252) in their possession while hunting in disabled areas. We will not accept photocopies or electronic copies.

iii. Disabled hunters may have an assistant, at least age 18, who must remain within sight and normal voice contact.

a. Non-hunting assistants must not be engaged in hunting and must possess a valid refuge hunt brochure, signed in ink, and a valid government-issued photo identification. Non-hunting assistants must also use fluorescent orange in accordance with condition C.1.xii.

b. Assistants who wish to hunt deer must possess a valid hunt permit (Big/Upland Game Hunt Application, FWS Form 3-2356 or Quota Deer Hunt Application, FWS Form 3-2354) for that day for any hunt area.

c. We do not allow assistants to enter a designated disabled hunting area unless they are accompanied by a certified disabled hunter.

d. All refuge-provided hunt blinds are reserved for disabled hunters only; however, when a disabled hunter and their assistant occupy the same blind, both may take game.

e. We do not require assistants to maintain sight and normal voice contact while retrieving game.

iv. We only allow disabled hunters to operate all-terrain vehicles (ATVs) and off-road vehicles (ORVs); when the disabled hunter is unable to physically do so, the assistant may operate the ATV/ORV.

a. Assistants may not operate an ATV/ORV without being accompanied on the same ATV/ORV by a disabled hunter.

b. ATVs/ORVs must have at least one headlight and one red tail light that are operational between legal sunset and legal sunrise.

c. Anyone who operates or rides on an ATV/ORV must wear protective headgear that meets the standards established in Transportation Article, section 21-1306, Annotated Code of Maryland, and use an eye-protective device or a windscreen that is of a type approved in Transportation Article, section 21-1306, Annotated Code of Maryland.

d. We only allow ATVs/ORVs to be operated on established routes of travel and around field edges.

e. We do not allow ATVs/ORVs to be operated in excess of 15 MPH.

D. * * *

* * * * *

2. We allow only fishing and crabbing from the Key Wallace roadway (bridge) across the Little Blackwater River and by boat, unless otherwise authorized by the refuge manager.

3. You must possess a valid Maryland sport fishing license, all required stamps, and a valid form of government-issued photo identification while fishing on the refuge.

* * * * *

Eastern Neck National Wildlife Refuge

* * * * *

C. Big Game Hunting. We allow hunting of white-tailed deer and turkey on designated areas of the refuge in accordance with State hunting regulations and subject to the following conditions:

1. General Hunt Regulations.

i. You must obtain a deer or turkey hunting permit (Big/Upland Game Hunt Application, FWS Form 3-2356). Hunting brochures contain hunting application procedures, seasons, bag limits, methods of hunting, maps depicting areas open to hunting, and the terms and conditions under which we issue hunting permits. They are available at the refuge visitor center, administration office, and on the refuge's Web site.

ii. You must possess on your person at all times while on refuge property: A valid Maryland hunting license and all required stamps, a valid form of government-issued photo identification, and a valid hunting permit (Big/Upland Game Hunt Application, FWS Form 3-2356) issued by the refuge. We will not accept photocopies or electronic copies of these documents.

iii. You must display your refuge hunt parking pass in plain sight, on the dash of your vehicle during hunt and scout days.

iv. We prohibit hunting from a permanently constructed tree stand or blind.

v. You must notify and receive permission from a Service law enforcement officer, refuge manager, or designee if you need to retrieve game from a refuge closed area or a hunting area for which you do not possess a valid permit (Big/Upland Game Hunt Application, FWS Form 3-2356).

vi. Other than using motor vehicles on designated roads, you may only access the refuge by foot, except as authorized by the refuge manager.

vii. We prohibit shooting a projectile from a firearm, muzzleloader, bow, or crossbow from, down, or across any refuge road. A refuge road is any road that is traveled by vehicular traffic.

viii. You must park in designated areas. We prohibit parking in front of any gate. Parked vehicles may not impede any road traffic (see § 27.31(h) of this chapter).

ix. You must make a reasonable effort to retrieve all wounded or killed game and include it in your daily bag limit. We prohibit leaving deer entrails or other waste within 50 feet (15.2 meters) of any refuge road, trail, parking area, or structure.

x. We allow the use of temporary tree stands and blinds for hunting. All stands and blinds left on refuge property, unoccupied, must be tagged in plain sight with your permit number and the years that are printed on your permit. You must remove all stands and blinds by legal sunset of a date established annually by the refuge manager.

xi. We allow the use of marking devices, including flagging or tape, but they must be removed by legal sunset of date established annually by the refuge. You may not use paint or any other permanent marker to mark trails.

xii. You must use florescent orange in accordance with State regulations during all designated firearm and muzzleloader deer hunts.

xiii. We prohibit the use of rimfire or centerfire rifles and all handguns, including muzzleloading pistols, for hunting.

xiv. You must adhere to the bag limits set fourth annually in the brochure. Deer harvested on the refuge do not count toward State bag limits but must be recorded and checked with the State. Deer harvested on the refuge must be checked pursuant to the refuge hunt in which they are taken, regardless of the weapon used or corresponding State season.

xv. The maximum speed limit on unpaved refuge roads is 15 miles per hour (MPH).

2. Youth Deer Hunt.

i. We allow hunters to hunt on designated areas on designated days (Youth Hunt) if they meet the criteria of a “youth hunter” as defined by State law.

ii. Youth hunters must be accompanied by an assistant consistent with the regulations established by State law.

iii. All youth deer hunters and their assistants must wear fluorescent orange in accordance with State regulations while hunting in designated youth hunt areas.

iv. Assistants must possess a valid refuge hunt brochure, signed in ink, and a valid government-issued photo identification.

v. Deer taken during youth days do not count toward the State bag limit and are in addition to any other deer taken during any other hunts on the refuge.

vi. Deer taken must be recorded and checked with the State.

3. Designated Disabled Hunt.

i. All disabled hunters must possess a Federal Government Access pass (OMB Control 1024-0252). Disabled hunters are required to have their Federal Government Access pass (OMB Control 1024-0252) in their possession while hunting in disabled areas. We will not accept photocopies or electronic copies of the Federal Government Access pass.

ii. Disabled hunters may have an assistant who must be age 18 or older and remain within sight and normal voice contact.

a. Non-hunting assistants must not be engaged in hunting and must possess a valid refuge hunt brochure, signed in ink, and a valid government-issued photo identification. We will not accept photocopies of these documents. Non-hunting assistants must also wear fluorescent orange in accordance with C.1.xii.

b. Assistants who wish to deer hunt must possess a valid refuge hunt permit (Big/Upland Game Hunt Application, FWS Form 3-2356) for that day.

c. We do not allow assistants to enter a designated disabled hunting area unless they are accompanied by a certified disabled hunter.

d. All refuge-provided hunt blinds are reserved for disabled hunters only; however, when a disabled hunter and their assistant occupy the same blind, both may take game.

e. We do not require assistants to maintain sight and normal voice contact while retrieving game.

iii. We allow only disabled hunters to operate all-terrain vehicles (ATVs) and off-road vehicles (ORVs); when the disabled hunter is unable to physically do so, the assistant may operate the ATV/ORV.

a. Assistants may not operate an ATV without being accompanied on the same ATV by a disabled hunter.

b. ATVs/ORVs must have at least one headlight and one red tail light that are operational between legal sunset and legal sunrise.

c. Anyone who operates or rides on a ATV/ORV must wear protective headgear that meets the standards established in Transportation Article, section 21-1306, Annotated Code of Maryland, and must use an eye-protective device or a windscreen of a type approved in Transportation Article, section 21-1306, Annotated Code of Maryland.

d. We only allow ATVs/ORVs to be operated on established routes of travel and around field edges.

e. We do not allow ATVs/ORVs to be operated in excess of 15 miles per hour (MPH).

D. * * *

4. You must possess a valid Maryland sport fishing license and all required stamps, and valid form of government-issued photo identification while fishing on the refuge.

* * * * *

12. Amend § 32.43 by:

a. Under the entry Hillside National Wildlife Refuge:

i. Revising paragraphs A.1 and A.7;

ii. Redesignating paragraph A.21 as A.22; and

iii. Adding a new paragraph A.21;

b. Revising paragraph B.6 under the entry Holt Collier National Wildlife Refuge;

c. Under the entry Mathews Brake National Wildlife Refuge:

i. Revising paragraph A.7; and

ii. Adding paragraph A.22;

d. Under the entry Morgan Brake National Wildlife Refuge:

i. Revising paragraph A.7; and

ii. Adding paragraph A.21;

e. Under the entry Panther Swamp National Wildlife Refuge:

i. Revising paragraph A introductory text and paragraph A.7; and

ii. Adding paragraphs A.22 and C.9; and

f. Under the entry Yazoo National Wildlife Refuge:

i. Revising paragraph A.7;

ii. Adding paragraph A.20; and

iii. Revising paragraphs B introductory text and C introductory text.

The additions and revisions read as follows:

§ 32.43 Mississippi.

* * * * *

Hillside National Wildlife Refuge

A. * * *

1. Each person age 16 and older hunting or fishing must possess a valid Theodore Roosevelt Complex Annual Public Use Permit (name/address/phone number).

* * * * *

7. We prohibit the use of plastic flagging tape, reflective tacks, and other similar marking devices.

* * * * *

21. Waterfowl hunters are limited to 25 shotshells per person in the field.

* * * * *

Holt Collier National Wildlife Refuge

* * * * *

B. * * *

6. We prohibit the use of plastic flagging tape, reflective tacks, and other similar marking devices.

* * * * *

Mathews Brake National Wildlife Refuge

A. * * *

7. We prohibit the use of plastic flagging tape, reflective tacks, and other similar marking devices.

* * * * *

22. Waterfowl hunters are limited to 25 shotshells per person in the field.

* * * * *

Morgan Brake National Wildlife Refuge

A. * * *

7. We prohibit the use of plastic flagging tape, reflective tacks, and other similar marking devices.

* * * * *

21. Waterfowl hunters are limited to 25 shotshells per person in the field.

* * * * *

Panther Swamp National Wildlife Refuge

A. Migratory Game Bird Hunting. We allow hunting of goose, duck, merganser, coot, and dove on designated areas of the refuge in accordance with State regulations and subject to the following regulations:

* * * * *

7. We prohibit the use of plastic flagging tape, reflective tacks, and other similar marking devices.

* * * * *

22. Waterfowl hunters are limited to 25 shotshells per person in the field.

* * * * *

C. * * *

9. Limited draw hunts for persons with disabilities will be held in November, December, and/or January. We will make hunt dates and permit application procedures (name/address/phone number) available at the Theodore Roosevelt Complex headquarters.

* * * * *

Yazoo National Wildlife Refuge

A. * * *

7. We prohibit the use of plastic flagging tape, reflective tacks, and other similar marking devices.

* * * * *

20. Waterfowl hunters are limited to 25 shotshells per person in the field.

B. Upland Game Hunting. We allow hunting of squirrel, rabbit, and raccoon on designated areas of the refuge in accordance with State regulations and subject to the following conditions:

* * * * *

C. Big Game Hunting. We allow hunting of white-tailed deer on designated areas of the refuge in accordance with State regulations and subject to the following conditions:

* * * * *

§ 32.44 [Amended]

13. Amend § 32.44 by removing the heading “Squaw Creek National Wildlife Refuge”; adding in its place the heading “Loess Bluffs National Wildlife Refuge” and moving the entry into alphabetical order within the section.

14. Amend § 32.45 by:

a. Revising paragraphs A and B.1 in the entry Benton Lake National Wildlife Refuge; and

b. Revising the entry Benton Lake Wetland Management District.

The revisions read as follows:

§ 32.45 Montana.

* * * * *

Benton Lake National Wildlife Refuge

A. Migratory Game Bird Hunting. We allow hunting of duck, goose, swan, and coot in designated areas of the refuge in accordance with State regulations and subject to the following conditions (consult refuge manager prior to hunting to learn of changes or updates):

1. We allow hunters to enter and remain in open hunting areas 2 hours before legal sunrise until 2 hours after legal sunset.

2. We prohibit hunting on or within 25 yards (22.5 meters) of dikes or roads except the marked portion of the dike between Marsh Units 5 and 6.

3. We prohibit access to refuge hunting areas from other than authorized refuge parking areas.

4. We allow hunting with the opening of waterfowl season and close November 30.

5. We allow hunting during youth waterfowl and pheasant hunts in accordance with State regulations.

6. We allow hunting from temporary portable blinds or blinds made from natural vegetation.

7. We prohibit the retrieval of downed game from areas closed to hunting.

8. Hunters must have a means of bird retrieval, using a boat, waders, or a trained dog (see § 26.21(b) of this chapter).

9. You must remove boats, decoys, portable blinds, other personal property, and any materials brought onto the area for blind construction at the end of each day (see §§ 27.93 and 27.94 of this chapter).

B. * * *

1. Conditions A1 and A8 apply.

* * * * *

Benton Lake Wetland Management District

A. Migratory Game Bird Hunting. We allow migratory game bird hunting on Waterfowl Production Areas (WPA) throughout the District, excluding Sands WPA in Hill County and H2-0 WPA in Powell County, in accordance with State regulations and subject to the following condition: You must remove boats, decoys, portable blinds, other personal property, and any materials brought onto the area for blind construction at the end of each day (see §§ 27.93 and 27.94 of this chapter).

B. Upland Game Hunting. We allow the hunting of coyotes, skunks, red fox, raccoons, hares, rabbits, and tree squirrels on Waterfowl Production Areas (WPAs) throughout the District, excluding Sands WPA in Hill County and H2-0 WPA in Powell County, in accordance with State regulations and subject to the following condition: Hunters may possess only approved nontoxic shot (see § 32.2(k)).

C. Big Game Hunting. We allow big game hunting on WPAs throughout the District, excluding Sands WPA in Hill County and H2-0 WPA in Powell County, in accordance with State regulations.

D. Sport Fishing. We allow sport fishing on WPAs throughout the District in accordance with State regulations subject to the following condition: You must remove boats, fishing equipment, and other personal property at the end of each day (see §§ 27.93 and 27.94 of this chapter).

* * * * *

15. Amend § 32.47 by revising paragraph A.5 under the entry Stillwater National Wildlife Refuge to read as follows:

§ 32.47 Nevada.

* * * * *

Stillwater National Wildlife Refuge

A. * * *

5. We prohibit boating outside of the waterfowl and youth waterfowl hunting season except in Swan Check Lake where we allow non-motorized boating all year.

* * * * *

16. Amend § 32.49 by revising paragraph D.1 under the entry Wallkill River National Wildlife Refuge to read as follows:

§ 32.49 New Jersey.

* * * * *

Wallkill River National Wildlife Refuge

* * * * *

D. * * *

1. We allow fishing in and along the banks of the Wallkill River. We allow shore fishing only in the pond at Owens Station Crossing, Vernon, New Jersey. Fishing at Owens State Crossing is catch and release only.

* * * * *

17. Amend § 32.51, the entry for Montezuma National Wildlife Refuge, by:

a. Redesignating paragraphs A.1.xiii through A.1.xix as A.1.xiv through A.1.xx;

b. Adding a new paragraph A.1.xiii;

c. Revising newly redesignated paragraphs A.1.xvii and A.1.xx; and

d. Revising paragraphs A.2.iii, B.1, and C.13.

The revisions and addition read as follows:

§ 32.51 New York.

* * * * *

Montezuma National Wildlife Refuge

A. * * *

1. * * *

xiii. If you have a reservation but do not show up to hunt, and do not cancel your reservation 12 hours prior to legal shooting time, then you may be ineligible to hunt the next 3 hunt days. This decision is at the refuge manager's discretion.

* * * * *

xvii. Waterfowl hunters may possess a maximum of 15 shot shells on their person or in their means of conveyance.

* * * * *

xx. You must possess, carry, and present upon request to any law enforcement officer a valid daily hunt permit card (Migratory Bird Hunt Report, FWS Form 3-2361). You must return the daily hunt permit card at the end of hunting. You may obtain a permit at the Hunter Check Station during the check-in process, and return it to the Hunter Check Station or at the box located at the north end of the Tschache Pool dike.

2. * * *

iii. You must possess, carry, and present upon request to any Service law enforcement officer a valid daily hunt permit card (Migratory Bird Hunt Report, FWS Form 3-2361). You must return the daily hunt permit card at the end of hunting or at the end of the day. You may obtain a permit at the Hunter Check Station on State Route 89 and return it to the same location; obtaining a permit will be on a first-come, first-served basis each hunt day.

* * * * *

B. * * *

1. You must carry and present upon request to any Service law enforcement officer a valid daily hunt permit card (Big/Upland Game Hunt Application, FWS Form 3-2356). You must return the daily hunt permit card at the end of hunting or at the end of the day. You may obtain a permit at the Hunter Check Station on State Route 89 and return it to the same location; obtaining a permit during the fall season will be on a first-come, first-served basis each hunt day.

* * * * *

C. * * *

13. We prohibit boats and canoes on refuge pools. We prohibit hunting on the open-water portions of the refuge pools until the pools are frozen; when frozen, we allow access for hunting at the refuge manager's discretion.

* * * * *

18. Amend § 32.53 by:

a. Revising paragraph C introductory text under the entry Des Lacs National Wildlife Refuge; and

b. Under the entry Upper Souris National Wildlife Refuge:

i. Revising paragraph B introductory text and paragraphs B.1 through B.5; and

ii. Revising paragraph C introductory text.

The revisions read as follows:

§ 32.53 North Dakota.

* * * * *

Des Lacs National Wildlife Refuge

* * * * *

C. Big Game Hunting. We allow deer and moose hunting on designated areas of the refuge in accordance with State regulations and subject to the following conditions:

* * * * *

Upper Souris National Wildlife Refuge

* * * * *

B. Upland Game Hunting. We allow hunting of wild turkey during the spring season, and sharp-tailed grouse, Hungarian partridge, and pheasant on designated areas of the refuge in accordance with State regulations and subject to the following conditions:

1. We allow the use of dogs for hunting and retrieving of upland game birds with the exception of wild turkey. Dogs must be under immediate control of the hunter (see § 26.21(b) of this chapter).

2. We open for sharp-tailed grouse, Hungarian partridge, and pheasant hunting on Unit I during the State hunting season. Unit I includes all refuge land north of the township road that runs east of Tolley, across Dam 41 (Carter Dam), and east to State Route 28.

3. We open for sharp-tailed grouse, Hungarian partridge, and pheasant hunting on Unit II during the State hunting season, except we close from the first day of the regular State waterfowl season through the last day of State deer gun season. Unit II includes refuge land between Lake Darling Dam and Unit I.

4. We close land south of Lake Darling Dam to sharp-tailed grouse, Hungarian partridge, and pheasant hunting.

5. We prohibit sharp-tailed grouse, Hungarian partridge, pheasant, and spring wild turkey hunting in the area around refuge headquarters, buildings, shops, residences, Outlet Fishing Area, and Lake Darling Dam water control structure. We post these areas with “Closed to Hunting” signs.

* * * * *

C. Big Game Hunting. We allow deer and moose hunting on designated areas of the refuge in accordance with State regulations and subject to the following conditions:

* * * * *

19. Amend § 32.55 by:

a. Revising paragraphs A.7, A.8, B.6, C.1, C.3, and C.5 under the entry Deep Fork National Wildlife Refuge; and

b. Revising paragraphs B and C under the entry Sequoyah National Wildlife Refuge.

The revisions read as follows:

§ 32.55 Oklahoma.

* * * * *

Deep Fork National Wildlife Refuge

A. * * *

7. We prohibit horse and mule use on the refuge.

8. We provide access for hunters with disabilities.

* * * * *

B. * * *

6. We offer refuge-controlled turkey hunts. You must possess a State-issued controlled hunt letter and pay a fee for these hunts.

* * * * *

C. * * *

1. You must possess and carry a signed refuge permit (name only) for the archery deer hunt. Hunters must turn in a Big Game Harvest Report (FWS Form 3-2359) by December 31 annually. Failure to submit the report will render the hunter ineligible for the next year's limited season archery deer hunt.

* * * * *

3. You may hunt feral hog during any established refuge hunting season. Refuge permits (either a signed refuge permit or a State-issued controlled hunt letter) and legal weapons apply for the current hunting season.

* * * * *

5. We offer refuge-controlled deer hunts (primitive weapon, disabled primitive, and youth primitive). You must possess a permit (a State-issued controlled hunt letter) and pay a fee for these hunts.

* * * * *

Sequoyah National Wildlife Refuge

* * * * *

B. Upland Game Hunting. We allow hunting of Eastern gray and fox squirrel and swamp and Eastern cottontail rabbit on designated areas of the refuge in accordance with State regulations and subject to the following conditions:

1. Conditions A3, A4, A5, A8, and A12 apply.

2. You must possess and carry a signed refuge brochure; this serves as your Upland Game Hunting Permit. The permit/brochure is available free of charge at the refuge headquarters, at various entry points to the refuge, and on our Web site. You must abide by all rules and regulations listed on the permit (see § 32.2(e) of this chapter).

3. We prohibit hunters entering the Sandtown Bottom Unit prior to 5 a.m. during the hunting season. Hunters must leave the Sandtown Bottom Unit by 1 hour after legal sunset.

4. We open the refuge to hunting on Saturdays, Sundays, Mondays, and Tuesdays. We generally open the following units: Sandtown Bottom, Webber Bottom, Girty Bottom, Possum Hollow, and Vian Creek.

5. Season lengths and bag limits will be in accordance with State regulations with the exception that all upland game hunting will close on January 31 of each year.

6. We only allow legal shotguns and approved nontoxic shot (see § 32.2(k) of this chapter). You must plug hunting shotguns so that they are incapable of holding more than three shells. We also allow .22/.17 rimfire rifles for hunting upland game.

7. We prohibit squirrel and rabbit hunting in the Cook, Hi-Saw/Shelby, Delta Islands, and Haskell Management Units.

8. Incidental take of feral hogs may occur during squirrel and rabbit hunting season.

C. Big Game Hunting. We allow hunting of white-tailed deer on designated areas of the refuge in accordance with State regulations and subject to the following conditions:

1. Conditions A8, A9, and A12 apply.

2. You must possess and carry a hunt permit (State-issued permit), and comply with the designated refuge season, hunting methods, and location guidelines for that year.

3. Hunters must apply to the State-controlled deer hunt drawing administered by the Oklahoma Department of Wildlife Conservation for selection. You must attend a pre-hunt briefing.

4. You must pay State and Federal special deer hunting fees.

5. Incidental take of feral hogs may occur during deer hunting season.

* * * * *

20. Amend § 32.56 by:

a. Under the entry Baskett Slough National Wildlife Refuge:

i. Revising paragraph A.1;

ii. Redesignating paragraphs A.2 through A.11 as A.3 through A.12, respectively;

iii. Adding a new paragraph A.2; and

iv. Revising newly redesignated paragraph A.8; and

b. Revising paragraph D under the entry Siletz Bay National Wildlife Refuge.

The revisions and addition read as follows:

§ 32.56 Oregon.

* * * * *

Baskett Slough National Wildlife Refuge

A. * * *

1. Only hunters age 17 or younger are allowed to participate in the Youth Waterfowl Hunt. Youths must be accompanied by an adult age 21 or older.

2. Youth must obtain a refuge waterfowl hunting permit using the Waterfowl Lottery Application (FWS Form 3-2355). All youth hunting waterfowl must do so from designated blinds.

* * * * *

8. Waterfowl and goose permit hunters are required to check in and out at the Hunter Check Station (refuge office), which is open from 1½ hours before legal hunting hours to 8 a.m. and from 11 a.m. to 1 p.m. We prohibit hunting after 12 p.m. (noon).

* * * * *

Siletz Bay National Wildlife Refuge

* * * * *

D. Sport Fishing. We allow fishing and clamming in accordance with State regulations and subject to the following conditions:

1. We allow recreational bank fishing from the Alder Island Nature Trail.

2. We allow clamming on refuge lands and access across refuge lands to State-managed tidelands for clamming on the west side of U.S. Highway 101.

3. We prohibit pets on refuge trails or other refuge lands. We allow leashed pets only in the parking lot.

4. We allow fishing only from legal sunrise to legal sunset.

* * * * *

21. Amend § 32.63, the entry for Hagerman National Wildlife Refuge, by:

a. Revising paragraph A.10;

b. Adding paragraph A.15;

c. Revising paragraph B;

d. Revising paragraphs C.2, D.2, and D.4; and

e. Adding paragraphs D.15 through D.18.

The revisions and additions read as follows:

§ 32.63 Texas.

* * * * *

Hagerman National Wildlife Refuge

A. * * *

10. We prohibit airboats, hovercraft, and personal watercraft (such as Jet Skis, wave runners, and jet boats) on refuge waters.

* * * * *

15. We prohibit blocking of gates and roads (see § 27.31(h) of this chapter).

B. Upland Game Hunting. We allow hunting of squirrel and rabbit in the months of February and September on designated areas of the refuge in accordance with State regulations and subject to the following conditions: Conditions A1 through A15 apply.

C. * * *

2. Conditions A2, A5 through A7, and A10 through A15 apply.

* * * * *

D. * * *

2. Conditions A10, and A12 through A15 apply.

* * * * *

4. We allow wade fishing March 15 through October 1 annually from all areas except Refuge Road, Wildlife Drive, Plover Road, Tern Road, and Egret Road.

* * * * *

15. We prohibit boats and other floating devices on all open waters of Lake Texoma, except Big Mineral Creek from October 1 through March 14 annually.

16. At the point where Big Mineral Creek joins Lake Texoma, Big Mineral Creek becomes a year-round no wake zone to the end of upstream navigable waters.

17. From October 1 through March 14, we allow only nonmotorized boats in Big Mineral Creek from the point where it joins Lake Texoma to the upstream end of navigable waters. You may not have any type of gas or electric motor onboard that is capable of use. You may launch boats from a boat ramp only from L Pad Road or by hand at the Big Mineral Day Use Area.

18. We prohibit discarding fish whole or in part on refuge lands and waters.

* * * * *

22. Amend § 32.65 by revising paragraphs A.1.ii, A.1.iii introductory text, A.1.iii.c, A.1.iii.d, A.1.iv.a through A.1.iv.d, A.1.iv.g through A.1.iv.i, A.1.iv.m, A.1.iv.p, A.1.v.c, and A.1.vi. introductory text under the entry Missisquoi National Wildlife Refuge to read as follows:

§ 32.65 Vermont.

* * * * *

Missisquoi National Wildlife Refuge

A. * * *

1. * * *

ii. Maquam Shore Area encompasses a 30-acre area along the lakeshore of Maquam Bay and is bounded by private land on the west and a Vermont wildlife management area on the east. In the Maquam Shore Area, conditions A.1.i.a. through A.1.i.f. apply.

iii. Saxes Pothole/Creek and Shad Island Pothole encompass Saxes Creek, Saxes Pothole, and Shad Island Pothole. This is a controlled hunting area. We stake and make available five zones (numbered 1 through 5) to five hunting parties in Saxes Pothole; zone 6 is staked and available to one hunting party in Shad Island Pothole.

* * * * *

c. You may apply to a preseason lottery (Waterfowl Lottery Application, FWS Form 3-2355) to obtain a permit (Migratory Bird Hunt Report, FWS Form 3-2361) for the opening day of duck hunting season through the first Sunday of the duck hunting season and for the second weekend of the duck hunting season. During the years when the State elects to have a split season, you may also obtain your permit (Migratory Bird Hunt Report, FWS Form 3-2361) for the second opening day through the following Sunday through application to the preseason lottery (Waterfowl Lottery Application, FWS Form 3-2355). On all other hunt days, you must acquire a permit (Migratory Bird Hunt Report, FWS Form 3-2361) through self-registration at the Mac's Bend Landing no earlier than 2 hours before legal shooting time on the day of the hunt.

d. Hunters selected during the preseason lottery (Waterfowl Lottery Application, FWS Form 3-2355) must pay a $10 fee. The refuge must receive the fee no later than 2 days before the opening of the season or the selected hunter forfeits the permit (Migratory Bird Hunt Report, FWS Form 3-2361), which we will then make available to other hunters on a first-come, first-served basis. The fee is paid for any permit (Migratory Bird Hunt Report, FWS Form 3-2361) assigned before the day of the hunt. There is no fee for any permit (Migratory Bird Hunt Report, FWS Form 3-2361) obtained on the day of the hunt.

* * * * *

iv. * * *

a. Junior waterfowl hunters (ages 12-17, inclusive, at the time of the hunt), following successful completion of the annual training program (usually held the third or fourth Saturday in August), vie for blind site assignments during a lottery drawing (Waterfowl Lottery Application, FWS Form 3-2355) at the conclusion of the training. The 11 blind sites are available exclusively to these junior waterfowl hunters and their mentors during the first four Saturdays and Sundays of the duck season.

b. During a lottery drawing (Waterfowl Lottery Application, FWS Form 3-2355) at the conclusion of the annual junior waterfowl hunter training, adult volunteers who serve as mentors to junior waterfowl hunters will vie for the use of junior hunt area blind sites on the first Wednesday following the second weekend of the season. This is known as Mentor Day, and there is no fee charged to mentors. Any junior hunt area blinds not assigned at the conclusion of the annual junior waterfowl hunter training will be available to other adult hunters via a preseason lottery (Waterfowl Lottery Application, FWS Form 3-2355). Mentors will also be permitted to hunt alongside the junior hunters on the last two Saturdays and Sundays of the junior hunt period.

c. Following the use of the blind sites in this area by junior hunters and junior hunter mentors, all blind sites are then available to all adult hunters by permit (Migratory Bird Hunt Report, FWS Form 3-2361) awarded via a preseason lottery (Waterfowl Lottery Application, FWS Form 3-2355) for the second Wednesday following the second weekend of the duck season; and on weekends following the junior hunt by a first-come, first-served basis; hunters must self-register at the Mac's Bend boat launch.

d. Hunters, including junior hunters, with preregistered permits (Migratory Bird Hunt Report, FWS Form 3-2361) must sign in at the Mac's Bend boat launch no later than 7 a.m. on the date of their scheduled hunt. After 7 a.m., other hunters may sign in, self-register, and use unoccupied blind sites. Only junior hunters may hunt on the first four Saturdays and Sundays of the season. Adult mentors may hunt alongside their junior hunters for the last two Saturdays and Sundays of the junior hunt period. During this time, there still can only be two hunters per blind site (one junior and one mentor, or two juniors), regardless of the number of mentees.

* * * * *

g. Each adult hunter, except mentors on Mentor Day, must pay $10 for each permit (Migratory Bird Hunt Report, FWS Form 3-2361) issued during the preseason lottery (Waterfowl Lottery Application, FWS Form 3-2355). Permits acquired by self-registration are free.

h. Only junior hunters may discharge a firearm in this area during the youth weekend and the first two weekends of the season. Adult mentors may hunt alongside one junior mentee for the remainder of the junior hunt period.

i. We allow and recommend hunting from portable blinds and boat blinds constructed and placed by the refuge at some of the junior blind sites. Junior hunters are assigned a blind location by a lottery. We prohibit permanent blinds.

* * * * *

m. At the end of each day's hunt, each hunter must complete and deposit at Mac's Bend boat launch that portion of their permit (Migratory Bird Hunt Report, FWS Form 3-2361) that provides the number of birds harvested and number of birds knocked down but not retrieved.

* * * * *

p. A hunting party consists of the hunter named on the permit (Migratory Bird Hunt Report, FWS Form 3-2361) and one guest hunter per blind site per day. Junior hunters may not invite a guest hunter unless it is another refuge-trained junior hunter. Nonhunters may accompany a hunting party.

* * * * *

v. * * *

c. Hunters selected during the preseason lottery (Waterfowl Lottery Application, FWS Form 3-2355) must pay a $10 fee. The refuge must receive the fee no later than 2 days before the opening of the season or the selected hunter forfeits the permit (Migratory Bird Hunt Report, FWS Form 3-2361), which will be made available first to standby hunters identified at the time of the drawing, and second to other hunters on a first-come, first-served basis. You must pay the fee for any permit (Migratory Bird Hunt Report, FWS Form 3-2361) before the day of the hunt. There is no fee for any permit (Migratory Bird Hunt Report, FWS Form 3-2361) obtained on the day of the hunt.

* * * * *

vi. Maquam Swamp Area encompasses about 200 acres (80.9 hectares) west of the Central Vermont Railroad and south of Coleman's inholding and is open to migratory bird hunting with the following special requirements:

* * * * *

23. Amend § 32.66 by:

a. Revising paragraphs A, C, and D under the entry Chincoteague National Wildlife Refuge;

b. Under the entry Eastern Shore of Virginia National Wildlife Refuge:

i. Revising paragraphs C.3 and C.5;

ii. Removing paragraphs C.6, C.10, and C.11;

iii. Redesignating paragraphs C.7 through C.9 as C.6 through C.8, respectively; and

iv. Revising newly redesignated paragraph C.8; and

c. Revising paragraph C under the entry Wallops Island National Wildlife Refuge.

The revisions read as follows:

§ 32.66 Virginia.

* * * * *

Chincoteague National Wildlife Refuge

A. Migratory Game Bird Hunting. We allow hunting of waterfowl (as defined by the Virginia Waterfowl Hunting Guide) and rail on designated areas of the refuge within Wildcat Marsh, Morris Island, Assawoman Island, and Metompkin Island Divisions in accordance with State regulations and subject to the following conditions:

1. You must obtain a Refuge Migratory Game Bird Hunt Permit (Migratory Bird Hunt Application, FWS Form 3-2357) and maintain the permit on your person while hunting on the refuge.

2. You may only access hunting areas by boat.

3. You may erect portable blinds and deploy decoys; however, during the regular duck seasons, you must remove the blinds and decoys at the end of each day's hunt (see § 27.93 of this chapter). We prohibit hunting from a permanent blind or pit blind.

4. You may use trained dogs to assist in the retrieval of harvested birds.

5. We prohibit hunting on Assawoman and Metompkin Islands' beach and dune habitats beginning March 15.

6. We do not allow hunting on Sunday.

* * * * *

C. Big Game Hunting. We allow hunting of white-tailed deer and sika in designated areas of the refuge in accordance with State regulations and subject to the following conditions:

1. General hunt information:

i. You must possess a refuge hunt permit (Quota Deer Hunt Application, FWS Form 3-2354) while hunting.

ii. You must certify on your application you have viewed the refuge's hunt orientation.

iii. We allow holders of a refuge hunt permit (Quota Deer Hunt Application, FWS Form 3-2354) to access areas of the refuge typically closed to the non-hunting public. All occupants of a vehicle or hunt party must possess a refuge hunt permit and be actively engaged in hunting. We allow an exception to exist for those persons aiding a disabled person who possesses a valid State-issued Commonwealth of Virginia Disabled Resident Lifetime License or Commonwealth of Virginia Resident Disabled Veteran's Lifetime License.

iv. You must sign in at the hunter registration station prior to entering your hunt zone and sign out upon exiting your hunt zone. All hunters must sign out no later than 2 hours after the end of legal shooting hours.

v. You must check all harvested animals at the hunter registration station prior to signing out.

vi. We prohibit the use of a boat, all-terrain vehicle (see § 27.31(f) of this chapter), or saddled animal to access hunt areas or while hunting.

vii. We allow the use of portable tree stands, but you must remove stands at the end of each day's hunt (see § 27.93 of this chapter).

viii. You may not hunt within 100 feet (30.5 meters) of any building.

ix. We prohibit deer drives. We define a “drive” as four or more persons involved in the act of chasing, pursuing, disturbing, or otherwise directing deer so as to make the animal more susceptible to harvest.

x. We prohibit hunting on Sundays.

2. Archery hunt information:

i. We allow hunting of white-tailed deer and sika with archery tackle, as defined by the State, in designated areas of the refuge.

ii. You may not hunt or nock an arrow or crossbow bolt within 50 feet (15.2 meters) of the centerline of any road, whether improved or unimproved, or paved trail.

3. Firearm hunt information:

i. We allow hunting of white-tailed deer and sika with firearms in designated areas of the refuge.

ii. You may not hunt or discharge a firearm on or within 50 feet (15.2 meters) of the centerline of any road, whether improved or unimproved, or paved trail. You may not shoot across or down any road or paved trail.

D. Sport Fishing. We allow sport fishing, crabbing, and clamming from the shoreline of the refuge in designated areas of Tom's Cove, Swan's Cove, and the Atlantic Ocean in accordance with State regulations and subject to the following conditions:

1. You may not wade or launch a vessel in any water management areas.

2. You must attend minnow traps, crab traps, crab pots, and handlines at all times.

3. We prohibit the use of seine nets and pneumatic (compressed air or otherwise) bait launchers.

4. The State regulates certain species of finfish, shellfish, and crustacean (crab) using size or possession limits. You may not alter these species, to include cleaning or filleting, in such a way that we cannot determine its species or total length.

5. In order to fish after the refuge closes, anglers must obtain an overnight fishing pass (name/address/phone) issued by the National Park Service. Anglers can obtain a pass in person at the National Park Service Tom's Cove Visitor Center.

6. We allow only three surf fishing poles per licensed angler, and those poles must be attended at all times. This includes persons age 65 or older who are license-exempt in Virginia.

Eastern Shore of Virginia National Wildlife Refuge

* * * * *

C. * * *

3. We allow holders of a refuge big game hunt permit (signed brochure) to access areas of the refuge typically closed to the non-hunting public. All occupants of a vehicle or hunt party must possess a refuge hunt permit and be actively engaged in hunting. We allow an exception to exist for those persons aiding a disabled person who possesses a valid State-issued Commonwealth of Virginia Disabled Resident Lifetime License or Commonwealth of Virginia Resident Disabled Veteran's Lifetime License.

* * * * *

5. We allow the use of portable tree stands, but stands must be removed daily.

* * * * *

8. We only allow shotguns loaded with buckshot during the firearm season.

* * * * *

Wallops Island National Wildlife Refuge

* * * * *

C. Big Game Hunting. We allow hunting of white-tailed deer in designated areas of the refuge in accordance with State regulations and subject to the following conditions:

1. You must obtain a refuge hunt permit (Big/Upland Game Hunt Application, FWS Form 3-2356) and carry it on your person while hunting.

2. You must sign in at the hunter registration station prior to entering your hunt zone and sign out upon exiting your hunt zone. All hunters must sign out no later than 2 hours after the end of legal shooting hours.

3. You must report all harvested animals on the sign-out sheet at the hunter registration station when signing out.

4. We allow the use of portable tree stands. You must remove stands by the end of the hunt season (see § 27.93 of this chapter).

5. We prohibit dogs.

6. You must park your vehicle in designated areas.

7. We prohibit deer drives. We define a “drive” as four or more persons involved in the act of chasing, pursuing, disturbing, or otherwise directing deer so as to make the animal more susceptible to harvest.

* * * * *

24. Amend § 32.69 by:

a. Under the entry Fox River National Wildlife Refuge:

i. Removing paragraph C.2;

ii. Redesignating paragraphs C.3 through C.5 as C.2 through C.4, respectively; and

iii. Revising newly redesignated paragraph C.3;

b. Revising paragraphs A, B, and C under the entry Horicon National Wildlife Refuge; and

c. Revising paragraph D under the entry Leopold Wetland Management District.

The revisions read as follows:

§ 32.69 Wisconsin.

* * * * *

Fox River National Wildlife Refuge

* * * * *

C. * * *

3. You may enter the refuge no earlier than 1 hour before legal shooting hours and must exit the refuge no later than 1 hour after legal shooting hours end.

* * * * *

Horicon National Wildlife Refuge

A. Migratory Game Bird Hunting. We allow hunting of goose, duck, and coot on designated areas of the refuge in accordance with State regulations and subject to the following condition: We allow only participants in the Learn to Hunt and other special programs to hunt.

B. Upland Game Hunting. We allow hunting of wild turkey, ring-necked pheasant, gray partridge, squirrel, and cottontail rabbit on designated areas of the refuge in accordance with State regulations during the State seasons and subject to the following conditions:

1. For hunting, you may possess only approved nontoxic shot shells while in the field, including shot shells used for hunting wild turkey (see § 32.2(k) of this chapter).

2. We prohibit field possession of upland game species in areas closed to upland game hunting.

3. We prohibit engaging in hunting in areas closed to upland game hunting.

C. Big Game Hunting. We allow hunting of white-tailed deer in designated areas of the refuge in accordance with State regulations and subject to the following conditions:

1. We prohibit the construction or use of permanent blinds, platforms, or ladders.

2. You must remove all stands and personal property from the refuge following each day's hunt. We prohibit hunting from any stand left up overnight (see §§ 27.93 and 27.94 of this chapter).

3. You must possess a refuge permit (Big/Upland Game Hunt Application, FWS Form 3-2356) to hunt in Area E (surrounding the office/visitor center).

4. You may only hunt in Area D (auto tour/hiking trail) during the State 9-day gun season and December antlerless-only hunts. The refuge will post these dates annually.

5. You may enter the refuge no earlier than 1 hour before legal shooting hours and must exit the refuge no later than 1 hour after legal shooting hours.

6. Any ground blind used during any gun deer season must display at least 144 square inches (929 square centimeters) of solid-blaze-orange material visible from all directions.

7. We prohibit the field possession of white-tailed deer in areas closed to white-tailed deer hunting.

8. We prohibit engaging in hunting in areas closed to white-tailed deer hunting.

* * * * *

Leopold Wetland Management District

* * * * *

D. Sport Fishing. We allow sport fishing on Waterfowl Production Areas throughout the District in accordance with State regulations and subject to the following condition: We prohibit the use of motorized boats.

* * * * *

Dated: October 26, 2017.
Jason Larrabee,
Principal Deputy Assistant Secretary for Fish and Wildlife and Parks.

[FR Doc. 2017-24329 Filed 11-7-17; 8:45 am]

BILLING CODE 4333-15-P